ENVIRONMENTAL PROTECTION AGENCY

40 CFR Part 52

[EPA-R10-OAR-2018-0023; FRL-9990-80-Region 10]

Air Plan Approval; Oregon; Update to Materials Incorporated by Reference

AGENCY: Environmental Protection Agency (EPA).

ACTION: Final rule; administrative change.

SUMMARY: The Environmental Protection Agency (EPA) is updating materials incorporated by reference (IBR) into the Oregon State Implementation Plan (SIP). The regulations affected by this update were previously submitted by the Oregon Department of Environmental Quality (ODEQ) and approved by the EPA. In this action the EPA is also notifying the public of corrections to typographical errors and rearranging the contents for clarity. In addition, the EPA is removing duplicative rules in the Code of Federal Regulations (CFR) for the State of Oregon to improve cost effectiveness and usability of the CFR. This update makes no substantive changes to the Oregon SIP and imposes no new requirements. This update affects the materials that are available for public inspection at the National Archives and Records Administration (NARA) and the EPA Regional Office.

DATES: This action is effective April 10, 2019.

ADDRESSES: SIP materials which are incorporated by reference into 40 CFR part 52 are available for inspection at the following locations: Environmental Protection Agency, Region 10, Office of Air and Waste (OAW-150), 1200 Sixth Avenue, Seattle, WA 98101; and the National Archives and Records Administration (NARA). For information on the availability of this material at NARA, call (202) 741-6030, or go to: https://www.archives.gov/federal-register/cfr/ibr-locations.html. To view the materials at the Region 10 Office, the EPA requests that you email the contact listed in the FOR FURTHER INFORMATION CONTACT section.

FOR FURTHER INFORMATION CONTACT: Christi Duboiski, EPA Region 10, 1200 6th Ave, Suite 155, Seattle, WA 98101, (360) 753-9081, or duboiski.christi@epa.gov.

SUPPLEMENTARY INFORMATION: Throughout this document, wherever “we,” “us,” or “our” is used, it is intended to refer to EPA.

I. Background

The State Implementation Plan (SIP) is a living document a State revises as necessary to address its unique air pollution problems. Therefore, from time to time, the Environmental Protection Agency (EPA) must act on SIP revisions containing new and revised regulations, approving and incorporating them into the SIP. On May 22, 1997, the EPA revised the procedures for incorporating by reference federally-approved SIPs, as a result of consultation between the EPA and the Office of the Federal Register (OFR) (62 FR 27968). The description of the revised SIP document, the incorporation by reference (IBR) procedures and the “Identification of plan” format are discussed in further detail in the May 22, 1997, Federal Register document. On December 10, 2013, the EPA published a Federal Register document beginning the new IBR procedure for Oregon (78 FR 74012).

Since then, the EPA has approved and incorporated by reference several provisions of the Oregon Revised Statutes (ORS), Oregon Administrative Rules (OAR), Lane Regional Clean Air Protection Agency (LRAPA) rules, and City and County Ordinances into the Oregon SIP. The following Federal Register documents contain information on each approved action: 79 FR 29359, May 22, 2014; 79 FR 35693, June 24, 2014; 80 FR 2313, January 16, 2015; 80 FR 44864, July 28, 2015; 80 FR 45431, July 30, 2015; 80 FR 51470, August 25, 2015; 80 FR 64346, October 23, 2015; 80 FR 65655, October 27, 2015; 80 FR 79266, December 21, 2015; 81 FR 30181, May 16, 2016; 81 FR 36176, June 6, 2016; 81 FR 46612, July 18, 2016; 81 FR 47029, July 20, 2016; 81 FR 72714, October 21, 2016; 82 FR 47122, October 11, 2017; 83 FR 5537, February 8, 2018; 83 FR 22853, May 17, 2018; 83 FR 24034, May 24, 2018; 83 FR 47073, September 18, 2018; 83 FR 50274, October 5, 2018 and 83 FR 63579, December 11, 2018.

II. EPA Action

This action represents the EPA's publication of the Oregon SIP update, appearing in 40 CFR part 52, subpart MM, as of March 1, 2019. The EPA is correcting minor typographical errors throughout, making formatting changes to the IBR tables in § 52.1970(c) and (d) and rearranging and republishing the contents of § 52.1970(e). This administrative action constitutes a “housekeeping” exercise to ensure all revisions to the State programs that have occurred are accurately reflected in 40 CFR part 52 and typographical errors are corrected. In this action, the EPA is doing the following:

A. Section 52.1970(b)

1. Revising text to announce an update to the IBR material with an approval date prior to March 1, 2019.

2. Revising text to update the addresses at which the public can inspect the IBR materials.

B. Section 52.1970(c), Table 2

1. Correcting several Federal Register citations to reflect the first page of the preamble, as opposed to the regulatory text page.

2. Correcting entry 209-0070 Hearing Procedures by moving it from § 52.1970(c) table 2 to § 52.1970(e) table 2. On March 22, 2017, the EPA proposed to approve OAR 340-209-0070, but not incorporate it by reference to avoid confusion or potential conflict with the EPA's independent authorities (82 FR 14654). However, in the final Federal Register document, the EPA incorporated by reference OAR 340-209-0070 in error (82 FR 47122, March 11, 2017).

3. Correcting rule exceptions listed in the explanation column but inadvertently associated with incorrect entries. The exceptions for entry 244-0244 is corrected to be aligned with entry 244-0240, and the exceptions for entry 244-0248 is corrected to be aligned with entry 244-0242 (80 FR 65655, October 27, 2015, footnotes 6 and 7 on page 65658).

4. Adding a footnote to clarify that EPA's approval is limited to the extent the provisions relate to section 110 of the CAA and determining compliance with and for the purposes of implementation of SIP-approved requirements.

C. Section 52.1970(c), Table 3

1. Correcting and clarifying dates for EPA-approved city and county ordinances.

D. Section 52.1970(d)

1. Changing the section title and a column heading to better reflect content.

2. Adding a footnote to explain the EPA's authority to remove source-specific requirements.

3. Removing permit expiration dates that were inadvertently included.

4. Reorganizing entries to appear in chronological order based on the EPA approval dates.

5. Providing clarification to permit conditions cited as approved for Cascade General and White Consolidated Inc. (62 FR 10455, March 7, 1997).

E. Section 52.1970(e)

1. Reformatting sections by tables (tables 1-5) and republishing content.

2. Revising table titles and column headings to better reflect content.

3. Adding entry 209-0070 Hearing Procedures to table 2. See section II.B.2. for detailed explanation.

4. Providing additional clarification in table 5, section 4 for the 2012 PM2.5 Attainment Plan for Oakridge-Westfir to reflect our approval of the Oakridge-Westfir attainment date extension (81 FR 46612, July 18, 2016).

Finally, as part of this general “housekeeping” exercise, the following sections of 40 CFR part 52, subpart MM, have been relocated to § 52.1970(e), nonregulatory provisions that are approved but not incorporated by reference; § 52.1989 “Interstate Transport for the 1997 8-hour ozone NAAQS and 1997 PM2.5 NAAQS”, § 52.1990 “Interstate Transport for the 2006 24-hour PM2.5 NAAQS”, and § 52.1991 “Section 110(a)(2) infrastructure requirements”. The EPA has determined §§ 52.1989, 52.1990 and 52.1991 are duplicative of the reorganized “Identification of plan” section in 40 CFR 52.1970(e). Therefore, the EPA is removing and reserving §§ 52.1989, 52.1990 and 52.1991.

The EPA has determined that this action falls under the “good cause” exemption in section 553(b)(3)(B) of the Administrative Procedures Act (APA), which, upon finding “good cause,” authorizes agencies to dispense with public participation, and section 553(d)(3) of the APA, which allows an agency to make an action effective immediately (thereby avoiding the 30-day delayed effective date otherwise provided for in the APA). This administrative action simply codifies provisions which are already in effect as a matter of law in Federal and approved State programs appearing in the CFR. Under section 553 of the APA, an agency may find good cause where procedures are “impractical, unnecessary, or contrary to the public interest.” Public comment for this administrative action is “unnecessary” and “contrary to the public interest” since the codification only reflects existing law. Immediate notice of this action in the Federal Register benefits the public by providing the public notice of the updated Oregon SIP compilation in 40 CFR part 52, subpart MM, notice of typographical corrections to the “Identification of Plan” § 52.1970 (which includes table entry corrections), incorporation of material from §§ 52.1989, 52.1990 and 52.1992 into § 52.1970(e) and removal of duplicative material, and reorganization of tables in § 52.1970(e).

III. Incorporation by Reference

In this rule, the EPA is finalizing regulatory text that includes incorporation by reference. In accordance with requirements of 1 CFR 51.5, the EPA is finalizing the incorporation by reference of previously EPA-approved regulations promulgated by Oregon described in the amendments to 40 CFR part 52 set forth below and Federally-approved prior to March 1, 2019. The EPA has made, and will continue to make, these materials generally available through https://www.regulations.gov and at the EPA Region 10 Office (please contact the person identified in the FOR FURTHER INFORMATION CONTACT section of this preamble for more information).

IV. Statutory and Executive Order Reviews

Under the Clean Air Act (CAA), the Administrator is required to approve a SIP submission that complies with the provisions of the CAA and applicable Federal regulations. 42 U.S.C. 7410(k); 40 CFR 52.02(a). Thus, in reviewing SIP submissions, the EPA's role is to approve State choices, provided that they meet the criteria of the CAA. This notification of administrative change does not impose additional requirements beyond those imposed by State law. For that reason, this action:

• Is not a “significant regulatory action” subject to review by the Office of Management and Budget under Executive Orders 12866 (58 FR 51735, October 4, 1993) and 13563 (76 FR 3821, January 21, 2011);

• is not an Executive Order 13771 (82 FR 9339, February 2, 2017) regulatory action because SIP approvals are exempted under Executive Order 12866;

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide the EPA with the discretionary authority to address, as appropriate, disproportionate human health or environmental effects, using practicable and legally permissible methods, under Executive Order 12898 (59 FR 7629, February 16, 1994).

The SIP is not approved to apply on any Indian reservation land or in any other area where the EPA or an Indian tribe has demonstrated that a tribe has jurisdiction. In those areas of Indian country, the rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

The EPA also believes the provisions of section 307(b)(1) of the CAA pertaining to petitions for judicial review are not applicable to this action. Prior EPA rulemaking actions for each individual component of the Oregon SIP compilations previously afforded interested parties the opportunity to file a petition for judicial review in the United States Court of Appeals for the appropriate circuit within 60 days of such rulemaking action. Thus, the EPA sees no need in this action to reopen the 60-day period for filing such petitions for judicial review for this “Identification of plan” update action for Oregon.

List of Subjects in 40 CFR Part 52

Environmental protection, Air pollution control, Carbon monoxide, Incorporation by reference, Intergovernmental relations, Lead, Nitrogen dioxide, Ozone, Particulate matter, Reporting and record keeping requirements, Sulfur oxides, Volatile organic compounds.

Authority: 42 U.S.C. 7401 et seq.

Dated: March 4, 2019.
Michelle L. Pirzadeh,
Acting Regional Administrator, Region 10.

For the reasons stated in the preamble, 40 CFR part 52 is amended as follows:

PART 52—APPROVAL AND PROMULGATION OF IMPLEMENTATION PLANS

1. The authority citation for part 52 continues to read as follows:

Authority: 42 U.S.C. 7401 et seq.

Subpart MM—Oregon

2. Amend § 52.1970 by revising paragraphs (b) through (e) to read as follows:

§ 52.1970 Identification of plan.

* * * * *

(b) Incorporation by reference. (1) Material listed as incorporated by reference in paragraphs (c) and (d) of this section with an EPA approval date prior to March 1, 2019, was approved for incorporation by reference by the Director of the Federal Register in accordance with 5 U.S.C. 552(a) and 1 CFR part 51. Material is incorporated as it exists on the date of the approval and notice of any change in the material will be published in the Federal Register. Entries in paragraphs (c) and (d) of this section with the EPA approval dates on or after March 1, 2019, will be incorporated by reference in the next update to the SIP compilation.

(2) EPA Region 10 certifies that the rules and regulations provided by the EPA in the SIP compilation at the addresses in paragraph (b)(3) of this section are an exact duplicate of the officially promulgated State rules/regulations which have been approved as part of the State Implementation Plan as of March 1, 2019.

(3) Copies of the materials incorporated by reference may be inspected at EPA Region 10, 1200 Sixth Ave, Seattle, WA 98101; or at the National Archives and Records Administration (NARA). For information on the availability of this material at NARA, call 202-741-6030, or go to: https://www.archives.gov/federal-register/cfr/ibr-locations.html.

(c) EPA approved regulations and statutes.

Table 1—EPA Approved Oregon State Statutes
State citation | Title/subject | State effective date | EPA approval date | Explanations
ORS 477.515 | Permits | 1971 | 11/1/2001, 66 FR 55105 | Permits required for fires on forestlands; waiver, permit conditions, smoke management plan; restricted areas, rules and excepted areas.

Table 2—EPA Approved Oregon Administrative Rules (OAR) ¹
State citation | Title/subject | State effective date | EPA approval date | Explanations
CHAPTER 340—DEPARTMENT OF ENVIRONMENTAL QUALITY
Division 21 General Emission Standards for Particulate Matter
Industrial Contingency Requirements for PM-10 Nonattainment Areas
021-200 | Purpose | 5/1/1995 | 9/21/1999, 64 FR 51051. |
021-205 | Relation to Other Rules | 3/10/1993 | 2/25/1997, 62 FR 8385. |
021-210 | Applicability | 3/10/1993 | 2/25/1997, 62 FR 8385. |
021-215 | Definitions | 3/10/1993 | 2/25/1997, 62 FR 8385. |
021-220 | Compliance Schedule for Existing Sources | 3/10/1993 | 2/25/1997, 62 FR 8385. |
021-225 | Wood Waste Boilers | 3/10/1993 | 2/25/1997, 62 FR 8385. |
021-230 | Wood Particle Dryers at Particleboard Plants | 3/10/1993 | 2/25/1997, 62 FR 8385. |
021-235 | Hardboard Manufacturing Plants | 3/10/1993 | 2/25/1997, 62 FR 8385. |
021-240 | Air Conveying Systems | 3/10/1993 | 2/25/1997, 62 FR 8385. |
021-245 | Fugitive Emissions | 3/10/1993 | 2/25/1997, 62 FR 8385. |
Division 200—General Air Pollution Procedures and Definitions
200-0010 | Purpose and Application | 4/16/2015 | 10/11/2017, 82 FR 47122. |
200-0020 | General Air Quality Definitions | 4/16/2015 | 10/11/2017, 82 FR 47122. |
200-0025 | Abbreviations and Acronyms | 4/16/2015 | 10/11/2017, 82 FR 47122. |
200-0030 | Exceptions | 4/16/2015 | 10/11/2017, 82 FR 47122. |
200-0035 | Reference Materials | 4/16/2015 | 10/11/2017, 82 FR 47122. |
Division 202—Ambient Air Quality Standards and PSD Increments
202-0010 | Definitions | 4/16/2015 | 10/11/2017, 82 FR 47122. |
202-0020 | Applicability and Jurisdiction | 4/16/2015 | 10/11/2017, 82 FR 47122. |
Ambient Air Quality Standards
202-0050 | Purpose and Scope of Ambient Air Quality Standards | 4/16/2015 | 10/11/2017, 82 FR 47122. |
202-0060 | Suspended Particulate Matter | 10/16/2015 | 5/24/2018, 83 FR 24034. |
202-0070 | Sulfur Dioxide | 4/16/2015 | 10/11/2017, 82 FR 47122. |
202-0080 | Carbon Monoxide | 7/1/2011 | 1/22/2003, 68 FR 2891. |
202-0090 | Ozone | 7/13/2017 | 5/24/2018, 83 FR 24034. |
202-0100 | Nitrogen Dioxide | 4/16/2015 | 10/11/2017, 82 FR 47122. |
202-0130 | Lead | 4/16/2015 | 10/11/2017, 82 FR 47122. |
Prevention of Significant Deterioration Increments
202-0200 | General | 4/16/2015 | 10/11/2017, 82 FR 47122. |
202-0210 | Ambient Air PSD Increments | 4/16/2015 | 10/11/2017, 82 FR 47122. |
202-0220 | Ambient Air Ceilings | 4/16/2015 | 10/11/2017, 82 FR 47122.
202-0225 | Ambient Air Quality Impact Levels for Maintenance Areas | 4/16/2015 | 10/11/2017, 82 FR 47122. |
Division 204—Designation of Air Quality Areas
204-0010 | Definitions | 4/16/2015 | 10/11/2017, 82 FR 47122. |
204-0020 | Designation of Air Quality Control Regions | 4/16/2015 | 10/11/2017, 82 FR 47122. |
204-0030 | Designation of Nonattainment Areas | 4/16/2015 | 10/11/2017, 82 FR 47122. |
204-0040 | Designation of Maintenance Areas | 4/16/2015 | 10/11/2017, 82 FR 47122. |
204-0050 | Designation of Prevention of Significant Deterioration Areas | 4/16/2015 | 10/11/2017, 82 FR 47122. |
204-0060 | Redesignation of Prevention of Significant Deterioration Areas | 4/16/2015 | 10/11/2017, 82 FR 47122. |
204-0070 | Special Control Areas | 4/16/2015 | 10/11/2017, 82 FR 47122. |
204-0080 | Motor Vehicle Inspection Boundary Designations | 4/16/2015 | 10/11/2017, 82 FR 47122. |
204-0090 | Oxygenated Gasoline Control Areas | 4/16/2015 | 10/11/2017, 82 FR 47122. |
Designation of Areas
204-0300 | Designation of Sustainment Areas | 4/16/2015 | 10/11/2017, 82 FR 47122. |
204-0310 | Designation of Reattainment Areas | 4/16/2015 | 10/11/2017, 82 FR 47122. |
204-0320 | Priority Sources | 4/16/2015 | 10/11/2017, 82 FR 47122. |
Division 206—Air Pollution Emergencies
206-0010 | Introduction | 4/16/2015 | 10/11/2017, 82 FR 47122. |
206-0020 | Definitions | 4/16/2015 | 10/11/2017, 82 FR 47122. |
206-0030 | Episode State Criteria for Air Pollution Emergencies | 4/16/2015 | 10/11/2017, 82 FR 47122. |
206-0040 | Special Conditions | 4/16/2015 | 10/11/2017, 82 FR 47122. |
206-0050 | Source Emission Reduction Plans | 4/16/2015 | 10/11/2017, 82 FR 47122. |
206-0060 | Regional Air Pollution Authorities | 4/16/2015 | 10/11/2017, 82 FR 47122. |
206-0070 | Operations Manual | 4/16/2015 | 10/11/2017, 82 FR 47122. |
206-8010 | Air Pollution Episode ALERT Conditions Source Emission Reduction Plan Emissions Control Actions to be Taken as Appropriate in Alert Episode Area | 4/16/2015 | 10/11/2017, 82 FR 47122. |
206-8020 | Air Pollution Episode WARNING Conditions Emission Reduction Plan | 4/16/2015 | 10/11/2017, 82 FR 47122. |
206-8030 | Air Pollution Episode EMERGENCY Conditions Emission Reduction Plan | 4/16/2015 | 10/11/2017, 82 FR 47122. |
206-8040 | Air Pollution Episode Conditions Due to Particulate Which is Primarily Fallout from Volcanic Activity or Windblown Dust | 4/16/2015 | 10/11/2017, 82 FR 47122. |
Division 208—Visible Emissions and Nuisance Requirements
208-0005 | Applicability and Jurisdiction | 4/16/2015 | 10/11/2017, 82 FR 47122. |
208-0010 | Definitions | 4/16/2015 | 10/11/2017, 82 FR 47122. |
Visible Emissions
208-0110 | Visible Air Contaminant Limitations | 4/16/2015 | 10/11/2017, 82 FR 47122. |
Fugitive Emission Requirements
208-0210 | Requirements for Fugitive Emissions | 4/16/2015 | 10/11/2017, 82 FR 47122. |
Division 209—Public Participation
209-0010 | Purpose | 4/16/2015 | 10/11/2017, 82 FR 47122. |
209-0020 | Applicability | 4/16/2015 | 10/11/2017, 82 FR 47122. |
209-0030 | Public Notice Categories and Timing | 4/16/2015 | 10/11/2017, 82 FR 47122. |
209-0040 | Public Notice Information | 4/16/2015 | 10/11/2017, 82 FR 47122. |
209-0050 | Public Notice Procedures | 4/16/2015 | 10/11/2017, 82 FR 47122. |
209-0060 | Persons Required to be Notified | 4/16/2015 | 10/11/2017, 82 FR 47122. |
209-0080 | Issuance or Denial of a Permit | 4/16/2015 | 10/11/2017, 82 FR 47122. |
Division 210—Stationary Source Notification Requirements
210-0010 | Applicability and Jurisdiction | 4/16/2015 | 10/11/2017, 82 FR 47122. |
210-0020 | Definitions | 4/16/2015 | 10/11/2017, 82 FR 47122. |
Registration
210-0100 | Registration in General | 4/16/2015 | 10/11/2017, 82 FR 47122. |
210-0110 | Registration Requirements | 4/16/2015 | 10/11/2017, 82 FR 47122. |
210-0120 | Re-Registration and Maintaining Registration | 4/16/2015 | 10/11/2017, 82 FR 47122. |
Notice of Construction and Approval of Plans
210-0205 | Applicability | 4/16/2015 | 10/11/2017, 82 FR 47122. |
210-0215 | Requirement | 4/16/2015 | 10/11/2017, 82 FR 47122. |
210-0225 | Types of Construction/Modification Changes | 4/16/2015 | 10/11/2017, 82 FR 47122. |
210-0230 | Notice to Construct | 4/16/2015 | 10/11/2017, 82 FR 47122. |
210-0240 | Construction Approval | 4/16/2015 | 10/11/2017, 82 FR 47122. |
210-0250 | Approval to Operate | 4/16/2015 | 10/11/2017, 82 FR 47122. |
Division 212—Stationary Source Testing and Monitoring
212-0005 | Applicability and Jurisdiction | 4/16/2015 | 10/11/2017, 82 FR 47122. |
212-0010 | Definitions | 4/16/2015 | 10/11/2017, 82 FR 47122. |
Sampling, Testing and Measurement
212-0110 | Applicability | 4/16/2015 | 10/11/2017, 82 FR 47122. |
212-0120 | Program | 4/16/2015 | 10/11/2017, 82 FR 47122. |
212-0130 | Stack Heights and Dispersion Techniques | 4/16/2015 | 10/11/2017, 82 FR 47122. |
212-0140 | Methods | 4/16/2015 | 10/11/2017, 82 FR 47122. |
212-0150 | Department Testing | 4/16/2015 | 10/11/2017, 82 FR 47122. |
Division 214—Stationary Source Reporting Requirements
214-0005 | Applicability and Jurisdiction | 4/16/2015 | 10/11/2017, 82 FR 47122. |
214-0010 | Definitions | 4/16/2015 | 10/11/2017, 82 FR 47122. |
Reporting
214-0100 | Applicability | 4/16/2015 | 10/11/2017, 82 FR 47122. |
214-0110 | Request for Information | 4/16/2015 | 10/11/2017, 82 FR 47122. |
214-0114 | Records; Maintaining and Reporting | 4/16/2015 | 10/11/2017, 82 FR 47122. |
214-0120 | Enforcement | 10/14/1999 | 1/22/2003, 68 FR 2891. |
214-0130 | Information Exempt from Disclosure | 4/16/2015 | 10/11/2017, 82 FR 47122. |
Emissions Statements for VOC and NOX Sources
214-0200 | Purpose and Applicability | 4/16/2015 | 10/11/2017, 82 FR 47122. |
214-0210 | Requirements | 4/16/2015 | 10/11/2017, 82 FR 47122. |
214-0220 | Submission of Emission Statement | 4/16/2015 | 10/11/2017, 82 FR 47122. |
Excess Emissions and Emergency Provision
214-0300 | Purpose and Applicability | 11/8/2007 | 12/27/2011, 76 FR 80747. |
214-0310 | Planned Startup and Shutdown | 11/8/2007 | 12/27/2011, 76 FR 80747. |
214-0320 | Scheduled Maintenance | 11/8/2007 | 12/27/2011, 76 FR 80747. |
214-0330 | All Other Excess Emissions | 11/8/2007 | 12/27/2011, 76 FR 80747. |
214-0340 | Reporting Requirements | 11/8/2007 | 12/27/2011, 76 FR 80747. |
214-0350 | Enforcement Action Criteria | 11/8/2007 | 12/27/2011, 76 FR 80747. |
214-0360 | Emergency as an Affirmative Defense | 11/8/2007 | 12/27/2011, 76 FR 80747. |
Division 216—Air Contaminant Discharge Permits
216-0010 | Purpose | 4/16/2015 | 10/11/2017, 82 FR 47122. |
216-0020 | Applicability and Jurisdiction | 4/16/2015 | 10/11/2017, 82 FR 47122. |
216-0025 | Types of Permits | 4/16/2015 | 10/11/2017, 82 FR 47122. |
216-0030 | Definitions | 4/16/2015 | 10/11/2017, 82 FR 47122. |
216-0040 | Application Requirements | 4/16/2015 | 10/11/2017, 82 FR 47122. |
216-0052 | Construction ACDPs | 4/16/2015 | 10/11/2017, 82 FR 47122. |
216-0054 | Short-Term Activity ACDPs | 4/16/2015 | 10/11/2017, 82 FR 47122. |
216-0056 | Basic ACDPs | 4/16/2015 | 10/11/2017, 82 FR 47122. |
216-0060 | General Air Contaminant Discharge Permits | 4/16/2015 | 10/11/2017, 82 FR 47122. |
216-0062 | General ACDP Attachments | 4/16/2015 | 10/11/2017, 82 FR 47122. |
216-0064 | Simple ACDPs | 4/16/2015 | 10/11/2017, 82 FR 47122. |
216-0066 | Standard ACDPs | 4/16/2015 | 10/11/2017, 82 FR 47122. |
216-0068 | Simple and Standard ACDP Attachments | 4/16/2015 | 10/11/2017, 82 FR 47122. |
216-0070 | Permitting a Source with Multiple Activities or Processes at a Single Adjacent or Contiguous Site | 4/16/2015 | 10/11/2017, 82 FR 47122. |
216-0082 | Termination or Revocation of an ACDP | 4/16/2015 | 10/11/2017, 82 FR 47122. |
216-0084 | Department-Initiated Modification | 4/16/2015 | 10/11/2017, 82 FR 47122. |
216-0090 | Sources Subject to ACDPs and Fees | 4/16/2015 | 10/11/2017, 82 FR 47122. |
216-0094 | Temporary Closure | 4/16/2015 | 10/11/2017, 82 FR 47122. |
216-8010 | Table 1—Activities and Sources | 4/16/2015 | 10/11/2017, 82 FR 47122. |
216-8020 | Table 2—Air Contaminant Discharge Permits | 4/16/2015 | 10/11/2017, 82 FR 47122. |
Division 222—Stationary Source Plant Site Emission Limits
222-0010 | Policy | 4/16/2015 | 10/11/2017, 82 FR 47122. |
222-0020 | Applicability and Jurisdiction | 4/16/2015 | 10/11/2017, 82 FR 47122. |
222-0030 | Definitions | 4/16/2015 | 10/11/2017, 82 FR 47122. |
Criteria for Establishing Plant Site Emission Limits
222-0035 | General Requirements for Establishing All PSELs | 4/16/2015 | 10/11/2017, 82 FR 47122. |
222-0040 | Generic Annual PSEL | 4/16/2015 | 10/11/2017, 82 FR 47122. |
222-0041 | Source Specific Annual PSEL | 4/16/2015 | 10/11/2017, 82 FR 47122. |
222-0042 | Short Term PSEL | 4/16/2015 | 10/11/2017, 82 FR 47122. |
222-0046 | Netting Basis | 4/16/2015 | 10/11/2017, 82 FR 47122. |
222-0048 | Baseline Period and Baseline Emission Rate | 4/16/2015 | 10/11/2017, 82 FR 47122. |
222-0051 | Actual Emissions | 4/16/2015 | 10/11/2017, 82 FR 47122. |
222-0055 | Unassigned Emissions | 4/16/2015 | 10/11/2017, 82 FR 47122. |
222-0080 | Plant Site Emission Limit Compliance | 4/16/2015 | 10/11/2017, 82 FR 47122. |
222-0090 | Combining and Splitting Sources and Changing Primary SIC Code | 4/16/2015 | 10/11/2017, 82 FR 47122. |
Division 223—Regional Haze Rules
223-0010 | Purpose | 12/10/2010 | 7/5/2011, 76 FR 38997. |
223-0020 | Definitions | 12/10/2010 | 7/5/2011, 76 FR 38997. |
223-0030 | BART and Additional Regional Haze Requirements for the Foster-Wheeler Boiler at the Boardman Coal-Fired Power Plant (Federal Acid Rain Program Facility ORISPL Code 6106) | 12/10/2010 | 7/5/2011, 76 FR 38997. |
223-0040 | Federally Enforceable Permit Limits | 12/10/2010 | 7/5/2011, 76 FR 38997. |
223-0050 | Alternative Regional Haze Requirements for the Foster-Wheeler Boiler at the Boardman Coal-Fired Power Plant (Federal Acid Rain Program Facility ORISPL Code 6106) | 12/10/2010 | 7/5/2011, 76 FR 38997. |
223-0080 | Alternative Requirements for the Foster-Wheeler Boiler at the Boardman Coal-Fired Power Plant (Federal Acid Rain Program Facility ORISPL Code 6106) Based Upon Permanently Ceasing the Burning of Coal Within Five Years of EPA Approval of the Revision to the Oregon Clean Air Act State Implementation Plan Incorporating OAR Chapter 340, Division 223 | 12/10/2010 | 7/5/2011, 76 FR 38997. |
Division 224—New Source Review
224-0010 | Applicability, General Prohibitions, General Requirements and Jurisdiction | 4/16/2015 | 10/11/2017, 82 FR 47122. |
224-0020 | Definitions | 4/16/2015 | 10/11/2017, 82 FR 47122. |
224-0025 | Major Modification | 4/16/2015 | 10/11/2017, 82 FR 47122. |
224-0030 | New Source Review Procedural Requirements | 4/16/2015 | 10/11/2017, 82 FR 47122. |
224-0034 | Exemptions | 4/16/2015 | 10/11/2017, 82 FR 47122. |
224-0038 | Fugitive and Secondary Emissions | 4/16/2015 | 10/11/2017, 82 FR 47122. |
224-0040 | Review of Sources Subject to Major NSR or Type A State NSR for Compliance with Regulations | 4/16/2015 | 10/11/2017, 82 FR 47122. |
Major New Source Review
224-0045 | Requirements for Sources in Sustainment Areas | 4/16/2015 | 10/11/2017, 82 FR 47122. |
224-0050 | Requirements for Sources in Nonattainment Areas | 4/16/2015 | 10/11/2017, 82 FR 47122. |
224-0055 | Requirements for Sources in Reattainment Areas | 4/16/2015 | 10/11/2017, 82 FR 47122. |
224-0060 | Requirements for Sources in Maintenance Areas | 4/16/2015 | 10/11/2017, 82 FR 47122. |
224-0070 | Prevention of Significant Deterioration Requirements for Sources in Attainment or Unclassified Areas | 4/16/2015 | 10/11/2017, 82 FR 47122. |
State New Source Review
224-0245 | Requirements for Sources in Sustainment Areas | 4/16/2015 | 10/11/2017, 82 FR 47122. |
224-0250 | Requirements for Sources in Nonattainment Areas | 4/16/2015 | 10/11/2017, 82 FR 47122. |
224-0255 | Requirements for Sources in Reattainment Areas | 4/16/2015 | 10/11/2017, 82 FR 47122. |
224-0260 | Requirements for Sources in Maintenance Areas | 4/16/2015 | 10/11/2017, 82 FR 47122. |
224-0270 | Requirements for Sources in Attainment and Unclassified Areas | 4/16/2015 | 10/11/2017, 82 FR 47122. |
Net Air Quality Benefit Emission Offsets
224-0500 | Net Air Quality Benefit for Sources Locating within or Impacting Designated Area | 4/16/2015 | 10/11/2017, 82 FR 47122 |
224-0510 | Common Offset Requirements | 4/16/2015 | 10/11/2017, 82 FR 47122 | Except paragraph (3).
224-0520 | Requirements for Demonstrating Net Air Quality Benefit for Ozone Areas | 4/16/2015 | 10/11/2017, 82 FR 47122. |
224-0530 | Requirements for Demonstrating Net Air Quality Benefit for Non-Ozone Areas | 4/16/2015 | 10/11/2017, 82 FR 47122. |
224-0540 | Sources in a Designated Area Impacting Other Designated Areas | 4/16/2015 | 10/11/2017, 82 FR 47122. |
Division 225—Air Quality Analysis
225-0010 | Purpose and Jurisdiction | 4/16/2015 | 10/11/2017, 82 FR 47122. |
225-0020 | Definitions | 4/16/2015 | 10/11/2017, 82 FR 47122. |
225-0030 | Procedural Requirements | 4/16/2015 | 10/11/2017, 82 FR 47122. |
225-0040 | Air Quality Models | 4/16/2015 | 10/11/2017, 82 FR 47122. |
225-0045 | Requirements for Analysis in Maintenance Areas | 4/16/2015 | 10/11/2017, 82 FR 47122. |
225-0050 | Requirements for Analysis in PSD Class I and Class III Areas | 4/16/2015 | 10/11/2017, 82 FR 47122. |
225-0060 | Requirements for Demonstrating Compliance with Standards and Increments in PSD Class I Areas | 4/16/2015 | 10/11/2017, 82 FR 47122. |
225-0070 | Requirements for Demonstrating Compliance with Air Quality Related Values Protection | 4/16/2015 | 10/11/2017, 82 FR 47122. |
Division 226—General Emission Standards
226-0005 | Applicability and Jurisdiction | 4/16/2015 | 10/11/2017, 82 FR 47122. |
226-0010 | Definitions | 4/16/2015 | 10/11/2017, 82 FR 47122. |
Highest and Best Practicable Treatment and Control
226-0100 | Policy and Application | 4/16/2015 | 10/11/2017, 82 FR 47122. |
226-0110 | Pollution Prevention | 4/16/2015 | 10/11/2017, 82 FR 47122. |
226-0120 | Operating and Maintenance Requirements | 4/16/2015 | 10/11/2017, 82 FR 47122. |
226-0130 | Typically Achievable Control Technology (TACT) | 4/16/2015 | 10/11/2017, 82 FR 47122. |
226-0140 | Additional Control Requirements for Stationary Sources of Air Contaminants | 4/16/2015 | 10/11/2017, 82 FR 47122. |
Grain Loading Standards
226-0210 | Particulate Emission Limitations for Sources Other Than Fuel Burning Equipment, Refuse Burning Equipment and Fugitive Emissions | 4/16/2015 | 10/11/2017, 82 FR 47122. |
Particulate Emissions from Process Equipment
226-0310 | Emission Standard | 4/16/2015 | 10/11/2017, 82 FR 47122. |
226-0320 | Determination of Process Weight | 4/16/2015 | 10/11/2017, 82 FR 47122. |
Alternative Emission Controls
226-0400 | Alternative Emission Controls (Bubble) | 4/16/2015 | 10/11/2017, 82 FR 47122. |
226-0810 | Particulate Matter Emissions Standards for Process Equipment | 4/16/2015 | 10/11/2017, 82 FR 47122. |
Division 228—Requirements for Fuel Burning Equipment and Fuel Sulfur Content
228-0010 | Applicability and Jurisdiction | 4/16/2015 | 10/11/2017, 82 FR 47122. |
228-0020 | Definitions | 4/16/2015 | 10/11/2017, 82 FR 47122. |
Sulfur Content of Fuels
228-0100 | Residual Fuel Oils | 4/16/2015 | 10/11/2017, 82 FR 47122. |
228-0110 | Distillate Fuel Oils | 4/16/2015 | 10/11/2017, 82 FR 47122. |
228-0120 | Coal | 4/16/2015 | 10/11/2017, 82 FR 47122. |
228-0130 | Exemptions | 4/16/2015 | 10/11/2017, 82 FR 47122. |
General Emission Standards for Fuel Burning Equipment
228-0200 | Sulfur Dioxide Standards | 4/16/2015 | 10/11/2017, 82 FR 47122. |
228-0210 | Grain Loading Standards | 4/16/2015 | 10/11/2017, 82 FR 47122. |
Division 232—Emission Standards for VOC Point Sources
232-0010 | Introduction | 4/16/2015 | 10/11/2017, 82 FR 47122. |
232-0020 | Applicability | 4/16/2015 | 10/11/2017, 82 FR 47122. |
232-0030 | Definitions | 4/16/2015 | 10/11/2017, 82 FR 47122. |
232-0040 | General Non-Categorical Requirements | 4/16/2015 | 10/11/2017, 82 FR 47122. |
232-0050 | Exemptions | 4/16/2015 | 10/11/2017, 82 FR 47122. |
232-0060 | Compliance Determination | 4/16/2015 | 10/11/2017, 82 FR 47122. |
232-0080 | Bulk Gasoline Plants Including Transfer of Gasoline | 4/16/2015 | 10/11/2017, 82 FR 47122. |
232-0085 | Gasoline Delivery Vessel(s) | 4/16/2015 | 10/11/2017, 82 FR 47122. |
232-0090 | Bulk Gasoline Terminals Including Truck and Trailer Loading | 4/16/2015 | 10/11/2017, 82 FR 47122. |
232-0100 | Testing Vapor Transfer and Collection Systems | 4/16/2015 | 10/11/2017, 82 FR 47122. |
232-0110 | Loading Gasoline and Volatile Organic Liquids onto Marine Tank Vessels | 4/16/2015 | 10/11/2017, 82 FR 47122. |
232-0120 | Cutback and Emulsified Asphalt | 4/16/2015 | 10/11/2017, 82 FR 47122. |
232-0130 | Petroleum Refineries | 4/16/2015 | 10/11/2017, 82 FR 47122. |
232-0140 | Petroleum Refinery Leaks | 4/16/2015 | 10/11/2017, 82 FR 47122. |
232-0150 | VOC Liquid Storage | 4/16/2015 | 10/11/2017, 82 FR 47122. |
232-0160 | Surface Coating in Manufacturing | 4/16/2015 | 10/11/2017, 82 FR 47122. |
232-0170 | Aerospace Component Coating Operations | 4/16/2015 | 10/11/2017, 82 FR 47122. |
232-0180 | Degreasers | 4/16/2015 | 10/11/2017, 82 FR 47122. |
232-0190 | Open Top Vapor Degreasers | 4/16/2015 | 10/11/2017, 82 FR 47122. |
232-0200 | Conveyorized Degreasers | 4/16/2015 | 10/11/2017, 82 FR 47122. |
232-0210 | Asphaltic and Coal Tar Pitch Used for Roofing Coating | 4/16/2015 | 10/11/2017, 82 FR 47122. |
232-0220 | Flat Wood Coating | 4/16/2015 | 10/11/2017, 82 FR 47122. |
232-0230 | Rotogravure and Flexographic Printing | 4/16/2015 | 10/11/2017, 82 FR 47122. |
Division 234—Emission Standards for Wood Product Industries
234-0005 | Applicability and Jurisdiction | 4/16/2015 | 10/11/2017, 82 FR 47122. |
234-0010 | Definitions | 4/16/2015 | 10/11/2017, 82 FR 47122 | Except (8) and (10).
Wigwam Waste Burners
234-0100 | Wigwam Waste Burners | 4/16/2015 | 10/11/2017, 82 FR 47122. |
234-0140 | Existing Administrative Agency Orders | 4/16/2015 | 10/11/2017, 82 FR 47122. |
Kraft Pulp Mills
234-0200 | Statement of Policy and Applicability | 4/16/2015 | 10/11/2017, 82 FR 47122. |
234-0210 | Emission Limitations | 4/16/2015 | 10/11/2017, 82 FR 47122 | Except (1).
234-0220 | More Restrictive Emission Limits | 4/16/2015 | 10/11/2017, 82 FR 47122 | Except (2).
234-0240 | Monitoring | 4/16/2015 | 10/11/2017, 82 FR 47122 | Except (1).
234-0250 | Reporting | 4/16/2015 | 10/11/2017, 82 FR 47122 | Except (1) and (2).
234-0270 | Chronic Upset Conditions | 4/16/2015 | 10/11/2017, 82 FR 47122. |
Board Products Industries (Veneer, Plywood, Particleboard, Hardboard)
234-0500 | Applicability and General Provisions | 4/16/2015 | 10/11/2017, 82 FR 47122. |
234-0510 | Veneer and Plywood Manufacturing Operations | 4/16/2015 | 10/11/2017, 82 FR 47122. |
234-0520 | Particleboard Manufacturing Operations | 4/16/2015 | 10/11/2017, 82 FR 47122. |
234-0530 | Hardboard Manufacturing Operations | 4/16/2015 | 10/11/2017, 82 FR 47122. |
234-0540 | Testing and Monitoring | 4/16/2015 | 10/11/2017, 82 FR 47122. |
Division 236—Emission Standards for Specific Industries
236-0005 | Applicability and Jurisdiction | 4/16/2015 | 10/11/2017, 82 FR 47122. |
236-0010 | Definitions | 4/16/2015 | 10/11/2017, 82 FR 47122. |
Hot Mix Asphalt Plants
236-0400 | Applicability | 4/16/2015 | 10/11/2017, 82 FR 47122. |
236-0410 | Control Facilities Required | 4/16/2015 | 10/11/2017, 82 FR 47122. |
236-0420 | Other Established Air Quality Limitations | 4/16/2015 | 10/11/2017, 82 FR 47122. |
236-0440 | Ancillary Sources of Emission—Housekeeping of Plant Facilities | 4/16/2015 | 10/11/2017, 82 FR 47122. |
236-8010 | Process Weight Table | 4/16/2015 | 10/11/2017, 82 FR 47122 |
Division 240—Rules for Areas with Unique Air Quality Needs
240-0010 | Purpose | 4/16/2015 | 10/11/2017, 82 FR 47122. |
240-0020 | Emission Limitations | 4/16/2015 | 10/11/2017, 82 FR 47122. |
240-0030 | Definitions | 4/16/2015 | 10/11/2017, 82 FR 47122. |
240-0050 | Compliance Testing Requirements | 4/16/2015 | 10/11/2017, 82 FR 47122. |
The Medford-Ashland Air Quality Maintenance Area and the Grants Pass Urban Growth Area
240-0100 | Applicability | 4/16/2015 | 10/11/2017, 82 FR 47122. |
240-0110 | Wood Waste Boilers | 4/16/2015 | 10/11/2017, 82 FR 47122. |
240-0120 | Veneer Dryer Emission Limitations | 4/16/2015 | 10/11/2017, 82 FR 47122. |
240-0130 | Air Conveying Systems (Medford-Ashland AQMA Only) | 4/16/2015 | 10/11/2017, 82 FR 47122. |
240-0140 | Wood Particle Dryers at Particleboard Plants | 4/16/2015 | 10/11/2017, 82 FR 47122. |
240-0150 | Hardboard Manufacturing Plants | 4/16/2015 | 10/11/2017, 82 FR 47122. |
240-0160 | Wigwam Waste Burners | 4/16/2015 | 10/11/2017, 82 FR 47122. |
240-0180 | Control of Fugitive Emissions (Medford-Ashland AQMA Only) | 4/16/2015 | 10/11/2017, 82 FR 47122. |
240-0190 | Requirement for Operation and Maintenance Plans (Medford-Ashland AQMA Only) | 4/16/2015 | 10/11/2017, 82 FR 47122. |
240-0210 | Continuous Monitoring | 4/16/2015 | 10/11/2017, 82 FR 47122. |
240-0220 | Source Testing | 4/16/2015 | 10/11/2017, 82 FR 47122. |
240-0250 | Open Burning | 4/16/2015 | 10/11/2017, 82 FR 47122. |
La Grande Urban Growth Area
240-0300 | Applicability | 4/16/2015 | 10/11/2017, 82 FR 47122. |
240-0320 | Wood-Waste Boilers | 4/16/2015 | 10/11/2017, 82 FR 47122. |
240-0330 | Wood Particle Dryers at Particleboard Plants | 4/16/2015 | 10/11/2017, 82 FR 47122. |
240-0340 | Hardboard Manufacturing Plants | 4/16/2015 | 10/11/2017, 82 FR 47122. |
240-0350 | Air Conveying Systems | 4/16/2015 | 10/11/2017, 82 FR 47122. |
240-0360 | Fugitive Emissions | 4/16/2015 | 10/11/2017, 82 FR 47122. |
The Lakeview Urban Growth Area
240-0400 | Applicability | 4/16/2015 | 10/11/2017, 82 FR 47122. |
240-0410 | Control of Fugitive Emissions | 4/16/2015 | 10/11/2017, 82 FR 47122. |
240-0420 | Requirement for Operation and Maintenance Plans | 4/16/2015 | 10/11/2017, 82 FR 47122. |
240-0430 | Source Testing | 4/16/2015 | 10/11/2017, 82 FR 47122. |
240-0440 | Open Burning | 4/16/2015 | 10/11/2017, 82 FR 47122. |
Klamath Falls Nonattainment Area
240-0500 | Applicability | 12/11/2012 | 8/25/2015, 80 FR 51470. |
240-0510 | Opacity Standard | 4/16/2015 | 10/11/2017, 82 FR 47122. |
240-0520 | Control of Fugitive Emissions | 12/11/2012 | 8/25/2015, 80 FR 51470. |
240-0530 | Requirement for Operation and Maintenance Plans | 12/11/2012 | 8/25/2015, 80 FR 51470. |
240-0540 | Compliance Schedule for Existing Industrial Sources | 12/11/2012 | 8/25/2015, 80 FR 51470. |
240-0550 | Requirements for New Sources When Using Residential Wood Fuel-Fired Device Offsets | 4/16/2015 | 10/11/2017, 82 FR 47122. |
Real and Permanent PM2.5 and PM10 Offsets
240-0560 | Real and Permanent PM2.5 and PM10 Offsets | 4/16/2015 | 10/11/2017, 82 FR 47122. |
Klamath Falls Nonattainment Area Contingency Measures
240-0570 | Applicability | 12/11/2012 | 6/6/2016, 81 FR 36176. |
240-0580 | Existing Industrial Sources Control Efficiency | 12/11/2012 | 6/6/2016, 81 FR 36176. |
240-0610 | Continuous Monitoring for Industrial Sources | 4/16/2015 | 10/11/2017, 82 FR 47122. |
240-0620 | Contingency Measures: New Industrial Sources | 12/11/2012 | 6/6/2016, 81 FR 36176. |
240-0630 | Contingency Enhanced Curtailment of Use of Solid Fuel Burning Devices and Fireplaces | 12/11/2012 | 6/6/2016, 81 FR 36176. |
Division 242—Rules Applicable to the Portland Area
242-0010 | What is the Employee Commute Options Program? | 4/12/2007 | 12/19/2011, 76 FR 78571. |
242-0020 | Who is Subject to ECO? | 4/12/2007 | 12/19/2011, 76 FR 78571. |
242-0030 | What Does ECO Require? | 4/12/2007 | 12/19/2011, 76 FR 78571. |
242-0040 | How Does the Department Enforce ECO? | 4/12/2007 | 12/19/2011, 76 FR 78571. |
242-0050 | Definitions of Terms Used in These Rules | 4/12/2007 | 12/19/2011, 76 FR 78571. |
242-0060 | Should All Employees at a Work Site be Counted? | 10/14/1999 | 1/22/2003, 68 FR 2891. |
242-0070 | What are the Major Requirements of ECO? | 4/12/2007 | 12/19/2011, 76 FR 78571. |
242-0080 | What are the Registration Requirements? | 4/12/2007 | 12/19/2011, 76 FR 78571. |
242-0090 | What are the Requirements for an Employee Survey? | 4/12/2007 | 12/19/2011, 76 FR 78571. |
242-0100 | Special Requirements for Employers Intending to Comply Without an Approved Plan | 10/14/1999 | 1/22/2003, 68 FR 2891. |
242-0110 | What if an Employer Does Not Meet the Target Auto Trip Rate? | 4/12/2007 | 12/19/2011, 76 FR 78571. |
242-0120 | How Will Employers Demonstrate Progress Toward the Target Auto Trip Rate? | 4/12/2007 | 12/19/2011, 76 FR 78571. |
242-0130 | What is the Schedule Employers Must Follow to Implement ECO? | 10/14/1999 | 1/22/2003, 68 FR 2891. |
242-0140 | How Should Employers Account for Changes in Work Force Size? | 10/14/1999 | 1/22/2003, 68 FR 2891. |
242-0150 | How Can an Employer Reduce Auto Commute Trips to a Work Site? | 10/14/1999 | 1/22/2003, 68 FR 2891. |
242-0160 | What Should be Included in an Auto Trip Reduction Plan? | 4/12/2007 | 12/19/2011, 76 FR 78571. |
242-0170 | When Will the Department Act on a Submitted Auto Trip Reduction Plan? | 10/14/1999 | 1/22/2003, 68 FR 2891. |
242-0180 | What is a Good Faith Effort? | 4/12/2007 | 12/19/2011, 76 FR 78571. |
242-0190 | How Does the ECO Program Affect New Employers, Expanding Employers and Employers Relocating Within the Portland AQMA? | 4/12/2007 | 12/19/2011, 76 FR 78571. |
242-0200 | Can a New or Relocating Employer Comply with ECO Through Restricted Parking Ratios? | 4/12/2007 | 12/19/2011, 76 FR 78571. |
242-0210 | Can an Existing Employer Comply with ECO Through Restricted Parking Ratios? | 4/12/2007 | 12/19/2011, 76 FR 78571. |
242-0220 | What if an Employer Has More Than One Work Site Within the Portland AQMA? | 4/12/2007 | 12/19/2011, 76 FR 78571. |
242-0230 | Can Employers Submit a Joint Plan? | 10/14/1999 | 1/22/2003, 68 FR 2891. |
242-0240 | Are There Alternatives to Trip Reduction? | 4/12/2007 | 12/19/2011, 76 FR 78571. |
242-0250 | What Alternatives Qualify as Equivalent Emission Reductions? | 10/14/1999 | 1/22/2003, 68 FR 2891. |
242-0260 | Can Employers Get Credit for Existing Trip Reduction Programs? | 4/12/2007 | 12/19/2011, 76 FR 78571. |
242-0270 | Are Exemptions Allowed if an Employer is Unable to Reduce Trips or Take Advantage of Alternate Compliance Options? | 4/12/2007 | 12/19/2011, 76 FR 78571. |
242-0280 | Participation in the Industrial Emission Management Program | 4/12/2007 | 12/19/2011, 76 FR 78571. |
242-0290 | What Kind of Records Must be Kept and for How Long? | 4/12/2007 | 12/19/2011, 76 FR 78571. |
Voluntary Maximum Parking Ratio Program
242-0300 | What is the Voluntary Parking Ratio Program? | 10/14/1999 | 1/22/2003, 68 FR 2891. |
242-0310 | Who can Participate in the Voluntary Parking Ratio Program? | 10/14/1999 | 1/22/2003, 68 FR 2891. |
242-0320 | Definitions of Terms and Land Uses | 10/14/1999 | 1/22/2003, 68 FR 2891. |
242-0330 | How Does a Property Owner Comply with the Voluntary Parking Ratio Program? | 10/14/1999 | 1/22/2003, 68 FR 2891. |
242-0340 | What are the Incentives for Complying with the Voluntary Parking Ratio Program? | 10/14/1999 | 1/22/2003, 68 FR 2891. |
242-0350 | Why Do I Need a Parking Ratio Permit? | 10/14/1999 | 1/22/2003, 68 FR 2891. |
242-0360 | What is Required to Obtain a Parking Ratio Permit? | 10/14/1999 | 1/22/2003, 68 FR 2891. |
242-0370 | How is the Parking Ratio Program Enforced? | 10/14/1999 | 1/22/2003, 68 FR 2891. |
242-0380 | When Will the Department Act on a Submitted Permit Application? | 10/14/1999 | 1/22/2003, 68 FR 2891. |
242-0390 | What are the Applicable Parking Ratios? | 10/14/1999 | 1/22/2003, 68 FR 2891. |
Industrial Emission Management Program
242-0400 | Applicability | 4/16/2015 | 10/11/2017, 82 FR 47122. |
242-0410 | Definition of Terms | 4/16/2015 | 10/11/2017, 82 FR 47122. |
242-0420 | Unused PSEL Donation Program | 4/16/2015 | 10/11/2017, 82 FR 47122. |
242-0430 | Industrial Growth Allowances | 4/16/2015 | 10/11/2017, 82 FR 47122. |
242-0440 | Industrial Growth Allowance Allocation | 4/16/2015 | 10/11/2017, 82 FR 47122. |
Gasoline Vapors from Gasoline Transfer and Dispensing Operations
242-0500 | Purpose and Applicability | 4/16/2015 | 10/27/2015, 80 FR 65655. |
242-0510 | Definitions | 4/16/2015 | 10/27/2015, 80 FR 65655. |
242-0520 | General Provisions | 4/16/2015 | 10/27/2015, 80 FR 65655. |
Motor Vehicle Refinishing
242-0600 | Applicability | 4/16/2015 | 10/11/2017, 82 FR 47122. |
242-0610 | Definitions | 4/16/2015 | 10/11/2017, 82 FR 47122. |
242-0620 | Requirements for Motor Vehicle Refinishing in Portland AQMA | 4/16/2015 | 10/11/2017, 82 FR 47122. |
242-0630 | Inspecting and Testing Requirements | 4/16/2015 | 10/11/2017, 82 FR 47122. |
Division 244—Oregon Federal Hazardous Air Pollutant Program 2 3
General Provisions for Stationary Sources
244-0030 | Definitions | 4/16/2015 | 10/27/2015, 80 FR 65655 | Only to the extent needed to implement the requirements for gasoline dispensing facilities in division 244 that are approved into the SIP.
Emission Standards for Gasoline Dispensing Facilities
244-0232 | Purpose | 4/16/2015 | 10/27/2015, 80 FR 65655. |
244-0234 | Affected Sources | 4/16/2015 | 10/27/2015, 80 FR 65655. |
244-0236 | Affected Equipment or Processes | 4/16/2015 | 10/27/2015, 80 FR 65655. |
244-0238 | Compliance Dates | 4/16/2015 | 10/27/2015, 80 FR 65655 | Except (1)(a) and (2)(c).
Emission Limitations and Management Practices
244-0239 | General Duties to Minimize Emissions | 4/16/2015 | 10/27/2015, 80 FR 65655. |
244-0240 | Work Practice and Submerged Fill Requirements | 4/16/2015 | 10/27/2015, 80 FR 65655 | Except (1)(b) and (c).
244-0242 | Vapor Balance Requirements | 4/16/2015 | 10/27/2015, 80 FR 65655 | Including tables 2 and 3. Except (4)(c) and (d).
Testing and Monitoring Requirements
244-0244 | Testing and Monitoring Requirements | 4/16/2015 | 10/27/2015, 80 FR 65655. |
Notifications, Records, and Reports
244-0246 | Notifications | 4/16/2015 | 10/27/2015, 80 FR 65655. |
244-0248 | Recordkeeping Requirements | 4/16/2015 | 10/27/2015, 80 FR 65655. |
244-0250 | Reporting Requirements | 4/16/2015 | 10/27/2015, 80 FR 65655. |
244-0252 | General Provision Applicability | 12/31/2008 | 10/27/2015, 80 FR 65655. |
Division 250—General Conformity
250-0010 | Purpose | 10/14/1999 | 1/22/2003, 68 FR 2891. |
250-0020 | Applicability | 10/14/1999 | 1/22/2003, 68 FR 2891. |
250-0030 | Definitions | 10/16/2015 | 5/24/2018, 83 FR 24034. |
250-0040 | Conformity Analysis | 10/14/1999 | 1/22/2003, 68 FR 2891. |
250-0050 | Reporting Requirements | 10/14/1999 | 1/22/2003, 68 FR 2891. |
250-0060 | Public Participation | 10/14/1999 | 1/22/2003, 68 FR 2891. |
250-0070 | Frequency of Conformity Determinations | 10/14/1999 | 1/22/2003, 68 FR 2891. |
250-0080 | Criteria for Determining Conformity of General Federal Actions | 10/14/1999 | 1/22/2003, 68 FR 2891. |
250-0090 | Procedures for Conformity Determinations of General Federal Actions | 10/14/1999 | 1/22/2003, 68 FR 2891. |
250-0100 | Mitigation of Air Quality Impacts | 10/14/1999 | 1/22/2003, 68 FR 2891. |
Division 252—Transportation Conformity
252-0010 | Propose | 10/14/1999 | 1/22/2003, 68 FR 2891. |
252-0030 | Definitions | 3/5/2010 | 10/4/2012, 77 FR 60627. |
252-0060 | Consultation | 3/5/2010 | 10/4/2012, 77 FR 60627. |
252-0070 | Timeframe of Conformity Determinations | 3/5/2010 | 10/4/2012, 77 FR 60627 | Except last two sentences.
252-0230 | Written Comments | 3/5/2010 | 10/4/2012, 77 FR 60627. |
Division 256—Motor Vehicles
256-0010 | Definitions | 7/12/2005 | 12/19/2011, 76 FR 78571. |
Visible Emissions
256-0100 | Visible Emissions—General Requirements, Exclusions | 7/12/2005 | 12/19/2011, 76 FR 78571. |
256-0130 | Motor Vehicle Fleet Operation | 7/12/2005 | 12/19/2011, 76 FR 78571. |
Certification of Pollution Control Systems
256-0200 | County Designations | 10/14/1999 | 11/22/2004, 69 FR 67819. |
Emission Control System Inspection
256-0300 | Scope | 7/12/2005 | 12/19/2011, 76 FR 78571. |
256-0310 | Government-Owned Vehicle, Permanent Fleet Vehicle and United States Government Vehicle Testing | 7/12/2005 | 12/19/2011, 76 FR 78571. |
256-0330 | Department of Defense Personnel Participating in the Privately Owned Vehicle Import Control Program | 10/14/1999 | 11/24/2004, 69 FR 67819. |
256-0340 | Light Duty Motor Vehicle Emission Control Test Method for Enhanced Program | 7/12/2005 | 12/19/2011, 76 FR 78571. |
256-0350 | Light Duty Motor Vehicle Emission Control Test Method for Enhanced Program | 7/12/2005 | 12/19/2011, 76 FR 78571. |
256-0355 | Emissions Control Test Method for OBD Test Program | 10/25/2000 | 11/22/2004, 69 FR 67819. |
256-0356 | Emissions Control Test Method for On-Site Vehicle Testing for Automobile Dealerships | 10/4/2001 | 11/22/2004, 69 FR 67819. |
256-0370 | Renewal of Registration for Light Duty Motor Vehicles and Heavy Duty Gasoline Motor Vehicles Temporarily Operating Outside of Oregon | 10/14/1999 | 11/22/2004, 69 FR 67819. |
256-0380 | Light Duty Motor Vehicle Emission Control Test Criteria for Basic Program | 7/12/2005 | 12/19/2011, 76 FR 78571. |
256-0390 | Heavy Duty Gasoline Motor Vehicle Emission Control Test Criteria | 7/12/2005 | 12/19/2011, 76 FR 78571. |
256-0400 | Light Duty Motor Vehicle Emission Control Standards for Basic Program | 10/14/1999 | 11/22/2004, 69 FR 67819. |
256-0410 | Light Duty Motor Vehicle Emission Control Standards for Basic Program | 10/14/1999 | 11/22/2004, 69 FR 67819. |
256-0420 | Heavy-Duty Gasoline Motor Vehicle Emission Control Standards | 10/14/1999 | 11/22/2004, 69 FR 67819. |
256-0440 | Criteria for Qualifications of Persons Eligible to Inspect Motor Vehicles and Motor Vehicle Pollution Control Systems and Execute Certificates | 10/25/2000 | 11/22/2004, 69 FR 67819. |
256-0450 | Gas Analytical System Licensing Criteria for Basic Program | 10/14/1999 | 11/22/2004, 69 FR 67819. |
256-0460 | Gas Analytical System Licensing Criteria for Enhanced Program | 10/14/1999 | 11/22/2004, 69 FR 67819. |
256-0465 | Test Equipment Licensing Criteria for OBD Test Program | 10/25/2000 | 11/22/2004, 69 FR 67819. |
256-0470 | Agreement with Independent Contractor; Qualifications of Contractor; Agreement Provisions | 10/14/1999 | 11/22/2004; 69 FR 67819. |
Division 258—Motor Vehicle Fuel Specifications
258-0010 | Definitions | 10/14/1999 | 1/22/2003, 68 FR 2891. |
Oxygenated Gasoline
258-0100 | Policy | 10/14/1999 | 1/22/2003, 68 FR 2891. |
258-0110 | Purpose and General Requirements | 10/14/1999 | 1/22/2003, 68 FR 2891. |
258-0120 | Sampling and Testing for Oxygen Content | 10/14/1999 | 1/22/2003, 68 FR 2891. |
258-0130 | Compliance Options | 10/14/1999 | 1/22/2003, 68 FR 2891. |
258-0140 | Per Gallon Oxygen Content Standard | 10/14/1999 | 1/22/2003, 69 FR 2891. |
258-0150 | Average Oxygen Content Standard | 10/14/1999 | 1/22/2003, 68 FR 2891. |
258-0160 | Minimum Oxygen Content | 10/14/1999 | 1/22/2003, 68 FR 2891. |
258-0170 | Oxygenated Gasoline Blending | 10/14/1999 | 1/22/2003, 68 FR 2891. |
258-0180 | Registration | 10/14/1999 | 1/22/2003, 68 FR 2891. |
258-0190 | CAR, Distributor and Retail Outlet Operating Permits | 10/14/1999 | 1/22/2003, 68 FR 2891. |
258-0200 | Owners of Gasoline and Terminals, Distributors and Retail Outlets Required to Have Indirect Source Operating Permits | 10/14/1999 | 1/22/2003, 68 FR 2891. |
258-0210 | Recordkeeping | 10/14/1999 | 1/22/2003, 68 FR 2891. |
258-0220 | Reporting | 10/14/1999 | 1/22/2003, 68 FR 2891. |
258-0230 | Prohibited Activities | 10/14/1999 | 1/22/2003, 68 FR 2891. |
258-0240 | Inspection and Sampling | 10/14/1999 | 1/22/2003, 68 FR 2891. |
258-0250 | Liability for Violation of a Prohibited Activity | 10/14/1999 | 1/22/2003, 68 FR 2891. |
258-0260 | Defenses for Prohibited Activities | 10/14/1999 | 1/22/2003, 68 FR 2891. |
258-0270 | Inability to Produce Conforming Gasoline Due to Extraordinary Circumstances | 10/14/1999 | 1/22/2003, 68 FR 2891. |
258-0280 | Quality Assurance Program | 10/14/1999 | 1/22/2003, 68 FR 2891. |
258-0290 | Attest Engagements Guidelines When Prohibited Activities Alleged | 10/14/1999 | 1/22/2003, 68 FR 2891. |
258-0300 | Dispenser Labeling | 10/14/1999 | 1/22/2003, 68 FR 2891. |
258-0310 | Contingency Provision for Carbon Monoxide Nonattainment Areas | 10/14/1999 | 1/22/2003, 68 FR 2891. |
Standard for Automotive Gasoline
258-0400 | Reid Vapor Pressure for Gasoline | 10/14/1999 | 1/22/2003, 68 FR 2891. |
Division 262—Heat Smart Program for Residential Woodstoves and Other Solid Fuel Heating Devices
262-0400 | Purpose and Applicability of Rules | 3/15/2011 | 6/20/2013, 78 FR 37124. |
262-0450 | Definitions | 4/16/2015 | 10/11/2017, 82 FR 47122. |
262-0500 | Certification of Solid Fuel Burning Devices for Sale and New | 3/15/2011 | 6/20/2013, 78 FR 37124. |
262-0600 | New and Used Solid Fuel Burning Devices | 5/17/2012 | 6/20/2013, 78 FR 37124. |
262-0700 | Removal and Destruction of Used Solid Fuel Burning Devices | 3/15/2011 | 6/20/2013, 78 FR 37124. |
262-0800 | Wood Burning and Other Heating Devices Curtailment Program | 3/15/2011 | 6/20/2013, 78 FR 37124. |
262-0900 | Materials Prohibited from Burning | 3/15/2011 | 6/20/2013, 78 FR 37124. |
262-1000 | Wood Burning Contingency Measures for PM2.5 Nonattainment Areas | 12/11/2012 | 6/6/2016, 81 FR 36176. |
Division 264—Rules for Open Burning
264-0010 | How to Use These Open Burning Rules | 4/16/2015 | 10/11/2017, 82 FR 47122. |
264-0020 | Policy | 4/16/2015 | 10/11/2017, 82 FR 47122. |
264-0030 | Definitions | 4/16/2015 | 10/11/2017, 82 FR 47122. |
264-0040 | Exemptions, Statewide | 4/16/2015 | 10/11/2017, 82 FR 47122. |
264-0050 | General Requirements Statewide | 4/16/2015 | 10/11/2017, 82 FR 47122. |
264-0060 | General Prohibitions Statewide | 4/16/2015 | 10/11/2017, 82 FR 47122. |
264-0070 | Open Burning Conditions | 4/16/2015 | 10/11/2017, 82 FR 47122. |
264-0075 | Delegation of Authority | 4/16/2015 | 10/11/2017, 82 FR 47122. |
264-0078 | Open Burning Control Areas | 4/16/2015 | 10/11/2017, 82 FR 47122. |
264-0080 | County Listing of Specific Open Burning Rules | 4/16/2015 | 10/11/2017, 82 FR 47122. |
Open Burning Requirements
264-0100 | Baker, Clatsop, Crook, Curry, Deschutes, Gilliam, Grant, Harney, Hood River, Jefferson, Klamath, Lake, Lincoln, Malheur, Morrow, Sherman, Tillamook, Umatilla, Union, Wallowa, Wasco and Wheeler Counties | 4/16/2015 | 10/11/2017, 82 FR 47122. |
264-0110 | Benton, Linn, Marion, Polk, and Yamhill Counties | 4/16/2015 | 10/11/2017, 82 FR 47122. |
264-0120 | Clackamas County | 4/16/2015 | 10/11/2017, 82 FR 47122. |
264-0130 | Multnomah County | 4/16/2015 | 10/11/2017, 82 FR 47122. |
264-0140 | Washington County | 4/16/2015 | 10/11/2017, 82 FR 47122. |
264-0150 | Columbia County | 4/16/2015 | 10/11/2017, 82 FR 47122. |
264-0160 | Lane County | 4/16/2015 | 10/11/2017, 82 FR 47122. |
264-0170 | Coos, Douglas, Jackson and Josephine Counties | 4/16/2015 | 10/11/2017, 82 FR 47122. |
264-0175 | Klamath County | 4/16/2015 | 10/11/2017, 82 FR 47122. |
264-0180 | Letter Permits | 4/16/2015 | 10/11/2017, 82 FR 47122 |
Division 266—Field Burning Rules (Willamette Valley)
266-0010 | Introduction | 10/14/1999 | 1/22/2003, 68 FR 2891. |
266-0020 | Policy | 10/14/1999 | 1/22/2003, 68 FR 2891. |
266-0030 | Definitions | 10/14/1999 | 1/22/2003, 68 FR 2891. |
266-0040 | General Requirements | 10/14/1999 | 1/22/2003, 68 FR 2891. |
266-0050 | Registration, Permits, Fees, Records | 10/14/1999 | 1/22/2003, 68 FR 2891. |
266-0060 | Acreage Limitations, Allocations | 10/14/1999 | 1/22/2003, 68 FR 2891. |
266-0070 | Daily Burning Authorization Criteria | 10/14/1999 | 1/22/2003, 68 FR 2891. |
266-0080 | Burning by Public Agencies (Training Fires) | 10/14/1999 | 1/22/2003, 68 FR 2891. |
266-0090 | Preparatory Burning | 10/14/1999 | 1/22/2003, 68 FR 2891. |
266-0100 | Experimental Burning | 10/14/1999 | 1/22/2003, 68 FR 2891. |
266-0110 | Emergency Burning Cessation | 10/14/1999 | 1/22/2003, 68 FR 2891. |
266-0120 | Propane Flaming | 10/14/1999 | 1/22/2003, 68 FR 2891. |
266-0130 | Stack Burning | 10/14/1999 | 1/22/2003, 68 FR 2891. |
Division 268—Emission Reduction Credits
268-0010 | Applicability | 4/16/2015 | 10/11/2017, 82 FR 47122. |
268-0020 | Definitions | 4/16/2015 | 10/11/2017, 82 FR 47122. |
268-0030 | Emission Reduction Credits | 4/16/2015 | 10/11/2017, 82 FR 47122. |
Oregon Department of Forestry—Chapter 629
629-24-301 | Maintenance of Productivity and Related Values | 8/1/1987 | 11/1/2001, 66 FR 55105 | Statewide Visibility Plan.
629-43-043 | Smoke Management Plan | 4/13/1987 | 11/1/2001, 66 FR 55105 | Statewide Visibility Plan.
Department of Oregon State Police
Office of State Fire Marshall—Chapter 837
Division 110—Field Burning and Propaning Rules
837-110-0010 | Field Preparation | 2/7/1994 | 11/1/2001, 66 FR 55105 | Statewide Visibility Plan.
837-110-0020 | Firefighting Water Supplies | 2/7/1994 | 11/1/2001, 66 FR 55105 | Statewide Visibility Plan.
837-110-0030 | Firefighting Equipment | 2/7/1994 | 11/1/2001, 66 FR 55105 | Statewide Visibility Plan.
837-110-0040 | Ignition Criteria | 2/7/1994 | 11/1/2001, 66 FR 55105 | Statewide Visibility Plan.
837-110-0050 | Prohibited Use | 2/7/1989 | 11/1/2001, 66 FR 55105 | Statewide Visibility Plan.
837-110-0060 | Communication | 2/7/1989 | 11/1/2001, 66 FR 55105 | Statewide Visibility Plan.
837-110-0070 | Fire Safety Watch | 2/7/1994 | 11/1/2001, 66 FR 55105 | Statewide Visibility Plan.
837-110-0080 | Fire Safety Buffer Zones | 2/7/1994 | 11/1/2001, 66 FR 55105 | Statewide Visibility Plan.
837-110-0090 | Ban on Burning | 2/7/1994 | 11/1/2001, 66 FR 55105 | Statewide Visibility Plan.
Propaning
837-110-0110 | Field Preparation | 2/7/1994 | 11/1/2001, 66 FR 55105 | Statewide Visibility Plan.
837-110-0120 | Firefighting Water Supplies | 2/7/1994 | 11/1/2001, 66 FR 55105 | Statewide Visibility Plan.
837-110-0130 | Firefighting Equipment | 2/7/1994 | 11/1/2001, 66 FR 55105 | Statewide Visibility Plan.
837-110-0140 | Communication | 2/7/1989 | 11/1/2001, 66 FR 55105 | Statewide Visibility Plan.
837-110-0150 | Fire Safety Watch | 2/7/1994 | 11/1/2001, 66 FR 55105 | Statewide Visibility Plan.
837-110-0160 | Ban on Burning | 8/11/1993 | 11/1/2001, 66 FR 55105 | Statewide Visibility Plan.
¹ EPA's approval is limited to the extent the provisions relate to section 110 of the Clean Air Act and determining compliance with and for purposes of implementation of SIP-approved requirements.
² Only for the Portland-Vancouver, Medford-Ashland, and Salem-Keizer Area Transportation Study air quality management areas, as well as all of Clackamas, Multnomah, and Washington counties.
³ This approval is for the purpose of regulating volatile organic compound (VOC) emissions.

Table 3—EPA Approved City and County Ordinances
Agency and ordinance | Title or subject | Date | EPA approval date | Explanations
City of Grants Pass Ordinance No. 4671 | Bans Open Burning | 7/23/1990 (city approved) | 12/17/1993, 58 FR 65934 | Grants Pass PM-10 Attainment Plan.
City of Eugene Ordinance No. 19731 | An Ordinance Restricting the Use of Solid Fuel Space Heating Devices During Air Pollution Episodes | 11/5/1990 (city approved) | 8/24/1994, 59 FR 43483 | Eugene-Springfield PM-10 Attainment Plan.
Lane County Ordinance No. 9-90 (Alternative 2) | Restricts Use of Solid Fuel Space Heating Devices During Air Pollution Episodes | 12/19/1990 (county enacted) | 8/24/1994, 59 FR 43483 | Eugene-Springfield PM-10 Attainment Plan.
City of Springfield Ordinance No. 5546 | Restricts Use of Solid Fuel Space Heating Devices During Air Pollution Episodes | 12/17/1990 (city approved) | 8/24/1994, 59 FR 43483 | Eugene-Springfield PM-10 Attainment Plan.
Union County Ordinance 1991-6 | Field Burning Smoke Management Program | 6/5/1991 (county passed) | 2/15/1995, 60 FR 8563 | La Grande PM-10 Attainment Plan.
City of Klamath Falls Ordinance 6630 | An Ordinance Consenting to the Application of the Klamath County Air Quality Program Ordinance Within City Limits | 9/16/1991 (city approval) | 4/14/1997, 62 FR 18047 | Klamath Falls PM-10 Attainment Plan.
City of Oakridge Ordinance 815 | Restricts Use of Solid Fuel Space Heating Devices During Air Pollution Episodes | 8/15/96 (city approved) | 3/15/1999, 64 FR 12751 | Oakridge PM-10 Attainment Plan.
Town of Lakeview Resolution No. 402 | Establishes a Lakeview Air Quality Improvement Program | 2/28/1994 (town passed) | 9/21/1999, 64 FR 51051 | Lakeview PM-10 Attainment Plan.
Lake County Commissioners Resolution | Establishment of a Lakeview Urban Growth Boundary Air Quality Improvement Program | 3/15/1995 (county passed) | 9/21/1999, 64 FR 51051 | Lakeview PM-10 Attainment Plan.
Town of Lakeview Ordinance No. 748 | Prohibits Use of Solid Fuel Burning Devices, Provides Certain Exemptions and Establishes Enforcement Controls | 2/28/1995 (town adopted) | 9/21/1999, 64 FR 51051 | Lakeview PM-10 Attainment Plan.
Town of Lakeview Ordinance No. 749 | Prohibits Waste Burning; Restricts Open Burning, Repeals Ordinance No. 581 | 2/28/1995 (town adopted) | 9/21/1999, 64 FR 51051 | Lakeview PM-10 Attainment Plan.
Lake County Ordinance No. 29 | Prohibits Use of Solid Fuel Burning Devices, Provides Certain Exemptions and Establishes Enforcement Controls | 3/15/1995 (county adopted) | 9/21/1999, 64 FR 51051 | Lakeview PM-10 Attainment Plan.
Lake County Ordinance No. 30 | Prohibits Waste Burning and Restricts Open Burning | 3/15/1995 (county adopted) | 9/21/1999, 64 FR 51051 | Lakeview PM-10 Attainment Plan.
Medford Ordinance No. 6484 | Woodstove Curtailment | 11/03/1989 (city approved) | 7/24/2002, 67 FR 48388 | Medford Carbon Monoxide (CO) Maintenance Plan.
Union County Ordinance No. 1992-4 | Management and Control of Field Burning | 7/1/1992 (county effective) | 11/01/2001, 66 FR 55105 | Statewide Visibility Plan.
Jefferson County Ordinance No. 0-58-89 | Management and Control of Field Burning | 5/31/1989 (county passed) | 11/01/2001, 66 FR 55105 | Statewide Visibility Plan.
Codified Ordinances of Jackson County 1810.01 | Definitions | 5/2/1990 (county passed) | 6/19/2006, 71 FR 35163 | Medford-Ashland PM-10 Attainment Plan.
Codified Ordinances of Jackson County 1810.02 | Exceptions to chapter | 8/22/2001 (county passed) | 6/19/2006, 71 FR 35163 | Medford-Ashland PM-10 Attainment Plan.
Codified Ordinances of Jackson County 1810.03 | Requirements for solid fuel heating device installation | 12/20/1989 (county passed) | 6/19/2006, 71 FR 35163 | Medford-Ashland PM-10 Attainment Plan.
Codified Ordinances of Jackson County 1810.04 | Solid fuel burning device omission standard | 5/02/1990 (county passed) | 6/19/2006, 71 FR 35163 | Medford-Ashland PM-10 Attainment Plan.
Codified Ordinances of Jackson County 1810.05 | Restriction of woodburning and emissions on high pollution days | 5/02/1990 (county passed) | 6/19/2006, 71 FR 35163 | Medford-Ashland PM-10 Attainment Plan.
Codified Ordinances of Jackson County 1810.06 | Trackout | 12/04/1985 (county passed) | 6/19/2006, 71 FR 35163 | Medford-Ashland PM-10 Attainment Plan.
Codified Ordinances of Jackson County 1810.07 | Open burning | 8/22/2001 (county passed) | 6/19/2006, 71 FR 35163 | Medford-Ashland PM-10 Attainment Plan.
Codified Ordinances of Jackson County 1810.08 | Burning of material emitting dense smoke or noxious odors in solid fuel burning devices | 12/20/1989 (county passed) | 6/19/2006, 71 FR 35163 | Medford-Ashland PM-10 Attainment Plan.
Codified Ordinances of Jackson County Exhibit A | [Map 1] | 5/02/1990 (county passed) | 6/19/2006, 71 FR 35163 | Medford-Ashland PM-10 Attainment Plan.
Codified Ordinances of Jackson County Exhibit B | Proposed Curtailment Boundary Jackson County | 5/02/1990 (county passed) | 6/19/2006, 71 FR 35163 | Medford-Ashland PM-10 Attainment Plan.
Codified Ordinances of Jackson County Exhibit C | [Map 2] | 5/02/1990 (county passed) | 6/19/2006, 71 FR 35163 | Medford-Ashland PM-10 Attainment Plan.
Codified Ordinances of Jackson County Exhibit D | Boundary Description Medford-Ashland Air Quality Maintenance Area | 5/02/1990 (county passed) | 6/19/2006, 71 FR 35163 | Medford-Ashland PM-10 Attainment Plan.
Code of the City of Medford, Oregon: 5.550 | Outside Burning | 3/16/2000 (city effective) | 6/19/2006, 71 FR 35163 | Medford-Ashland PM-10 Attainment Plan.
Code of the City of Medford, Oregon: 7.220 | Definitions | 9/17/1998 (city effective) | 6/19/2006, 71 FR 35163 | Medford-Ashland PM-10 Attainment Plan.
Code of the City of Medford, Oregon: 7.222 | Operation of Solid Fuel Burning Device Prohibition | 9/17/1998 (city effective) | 6/19/2006, 71 FR 35163 | Medford-Ashland PM-10 Attainment Plan.
Code of the City of Medford, Oregon: 7.224 | Exemptions | 9/17/1998 (city effective) | 6/19/2006, 71 FR 35163 | Medford-Ashland PM-10 Attainment Plan.
Code of the City of Medford, Oregon: 7.240 | Installation of Solid-Fuel Heating Devices | 8/02/1990 (city effective) | 6/19/2006, 71 FR 35163 | Medford-Ashland PM-10 Attainment Plan.
Code of the City of Medford, Oregon: 7.242 | Prohibited Materials | 9/17/1998 (city effective) | 6/19/2006, 71 FR 35163 | Medford-Ashland PM-10 Attainment Plan.
City of Central Point Municipal Code: 8.01.010 | Definitions | 1998 (city effective) | 6/19/2006, 71 FR 35163 | Medford-Ashland PM-10 Attainment Plan.
City of Central Point Municipal Code: 8.01.012 | Requirements for solid fuel burning device installation | 1998 (city effective) | 6/19/2006, 71 FR 35163 | Medford-Ashland PM-10 Attainment Plan.
City of Central Point Municipal Code: 8.01.014 | Solid fuel burning device emission standard | 1998 (city effective) | 6/19/2006, 71 FR 35163 | Medford-Ashland PM-10 Attainment Plan.
City of Central Point Municipal Code: 8.01.020 | Operation of solid fuel device prohibition | 1998 (city effective) | 6/19/2006, 71 FR 35163 | Medford-Ashland PM-10 Attainment Plan.
City of Central Point Municipal Code: 8.01.030 | Exemptions | 1998 (city effective) | 6/19/2006, 71 FR 35163 | Medford-Ashland PM-10 Attainment Plan.
City of Central Point Municipal Code: 8.01.032 | Prohibited materials | 1998 (city effective) | 6/19/2006, 71 FR 35163 | Medford-Ashland PM-10 Attainment Plan.
City of Central Point Municipal Code: 8.04.040 H | Penalty and abatement | 1979 (city effective) | 6/19/2006, 71 FR 35163 | Medford-Ashland PM-10 Attainment Plan.
City of Central Point Municipal Code: 8.04.095 | Trackout prohibited | 1994 (city effective) | 6/19/2006, 71 FR 35163 | Medford-Ashland PM-10 Attainment Plan.
City of Ashland Municipal Code: 10.30.005 | Definitions | 1998 (city effective) | 6/19/2006, 71 FR 35163 | Medford-Ashland PM-10 Attainment Plan.
City of Ashland Municipal Code: 10.30.010 | Outdoor and Indoor Burning Restricted | 1998 (city effective) | 6/19/2006, 71 FR 35163 | Medford-Ashland PM-10 Attainment Plan.
City of Ashland Municipal Code: 10.30.020 | Period When Outdoor Burning is Authorized | 2000 (city effective) | 6/19/2006, 71 FR 35163 | Medford-Ashland PM-10 Attainment Plan.
City of Ashland Municipal Code: 10.30.030 | Requirements for Permitted Fires | 1993 (city effective) | 6/19/2006, 71 FR 35163 | Medford-Ashland PM-10 Attainment Plan.
City of Ashland Municipal Code: 10.30.040 | Permits Required | 1993 (city effective) | 6/19/2006, 71 FR 35163 | Medford-Ashland PM-10 Attainment Plan.
City of Ashland Municipal Code: 9.24.010 | Definitions | 1998 (city effective) | 6/19/2006, 71 FR 35163 | Medford-Ashland PM-10 Attainment Plan.
City of Ashland Municipal Code: 9.24.020 | Requirements for Solid Fuel Heating Device Installation | 1998 (city effective) | 6/19/2006, 71 FR 35163 | Medford-Ashland PM-10 Attainment Plan.
City of Ashland Municipal Code: 9.24.030 | Solid Fuel Burning Device Emission Standard | 1998 (city effective) | 6/19/2006, 71 FR 35163 | Medford-Ashland PM-10 Attainment Plan.
City of Ashland Municipal Code: 9.24.040 | Restriction of Woodburning an Emissions on High Pollution Days | 1998 (city effective) | 6/19/2006, 71 FR 35163 | Medford-Ashland PM-10 Attainment Plan.
City of Ashland Municipal Code: 9.24.050 | Prohibited Materials | 1998 (city effective) | 6/19/2006, 71 FR 35163 | Medford-Ashland PM-10 Attainment Plan.
City of Talent Ordinance #565 | An ordinance of the city of Talent adopting a uniform fire code | 8/20/1992 (city effective) | 6/19/2006, 71 FR 35163 | Medford-Ashland PM-10 Attainment Plan.
City of Talent Ordinance #98-635-0 | An ordinance regulating the use of solid fuel burning devices within the city of Talent, Oregon | 3/04/1998 (city approved) | 6/19/2006, 71 FR 35163 | Medford-Ashland PM-10 Attainment Plan.
City of Phoenix Code: 8.16.050 | Burn days | 1982 (city effective) | 6/19/2006, 71 FR 35163 | Medford-Ashland PM-10 Attainment Plan.
City of Phoenix Code: 8.16.090 | Prohibited materials | 1982 (city effective) | 6/19/2006, 71 FR 35163 | Medford-Ashland PM-10 Attainment Plan.
City of Phoenix Code: 8.20.010 | Definitions | 1998 (city effective) | 6/19/2006, 71 FR 35163 | Medford-Ashland PM-10 Attainment Plan.
City of Phoenix Code: 8.20.020 | Requirements for solid fuel heating device installation | 1998 (city effective) | 6/19/2006, 71 FR 35163 | Medford-Ashland PM-10 Attainment Plan.
City of Phoenix Code: 8.20.030 | Solid fuel burning device emission standard | 1998 (city effective) | 6/19/2006, 71 FR 35163 | Medford-Ashland PM-10 Attainment Plan.
City of Phoenix Code: 8.20.040 | Restriction of woodburning and emissions on high pollution days | 1998 (city effective) | 6/19/2006, 71 FR 35163 | Medford-Ashland PM-10 Attainment Plan.
City of Phoenix Code: 8.20.050 | Prohibited materials | 1998 (city effective) | 6/19/2006, 71 FR 35163 | Medford-Ashland PM-10 Attainment Plan.
City of Jacksonville Code: Ordinance 375 | An ordinance amending chapter 8.08.100 of the Jacksonville Municipal Code | 4/21/1992 (city effective) | 6/19/2006, 71 FR 35163 | Medford-Ashland PM-10 Attainment Plan.
City of Jacksonville Code Chapter 8.10 | Woodheating | February 1992 (city effective) | 6/19/2006, 71 FR 35163 | Medford-Ashland PM-10 Attainment Plan.
City of Eagle Point Code: 8.08.160 | Outside burning of refuse or rubbish | 2000 (city effective) | 6/19/2006, 71 FR 35163 | Medford-Ashland PM-10 Attainment Plan.
City of Eagle Point Code: 8.08.170 | Open burning restricted | 1990 (city effective) | 6/19/2006, 71 FR 35163 | Medford-Ashland PM-10 Attainment Plan.
City of Eagle Point Code: 8.08.180 | Purposes for open burning permit | 1990 (city effective) | 6/19/2006, 71 FR 35163 | Medford-Ashland PM-10 Attainment Plan.
City of Eagle Point Code: 8.08.190 | Times when open burning fire allowed | 1990 (city effective) | 6/19/2006, 71 FR 35163 | Medford-Ashland PM-10 Attainment Plan.
City of Eagle Point Code: 8.08.200 | Public nuisance | 1990 (city effective) | 6/19/2006, 71 FR 35163 | Medford-Ashland PM-10 Attainment Plan.
Klamath County Ordinance 63.06 | Chapter 406—Klamath County Clean Air Ordinance 63.06 | 12/31/2012 (county effective) | 08/25/2015, 80 FR 51470 | Except 406.300 and 406.400 Klamath Falls PM2.5 Attainment Plan.
City of Oakridge Ordinance No. 920 | An Ordinance Amending Section 7 of Ordinance 914 and Adopting New Standards for the Oakridge Air Pollution Control Program | 10/20/2016 (county approved) | 2/08/2018, 83 FR 5537 | Oakridge PM-2.5 Attainment Plan. Only with respect to Sections 1, 2(1), 2(2), 3, 4, 5 and 7.

Table 4—EPA Approved Lane Regional Air Protection Agency (LRAPA) Rules for Oregon ¹
LRAPA citation | Title/subject | State effective date | EPA approval date | Explanations
Title 11—Policy and General Provisions
11-005 | Policy | 10/9/1979 | 9/9/1993, 58 FR 47385. |
11-010 | Construction and Validity | 10/9/1979 | 9/9/1993, 58 FR 47385. |
Title 12—Definitions
12-001 | General | 3/23/2018 | 10/5/2018, 83 FR 50274. |
12-005 | Definitions | 3/23/2018 | 10/5/2018, 83 FR 50274. |
12-010 | Abbreviations and Acronyms | 3/23/2018 | 10/5/2018, 83 FR 50274. |
12-020 | Exceptions | 3/23/2018 | 10/5/2018, 83 FR 50274. |
12-025 | Reference Materials | 3/23/2018 | 10/5/2018, 83 FR 50274. |
Title 16—Home Wood Heating Curtailment Program Enforcement
16-001 | Purpose | 7/13/1993 | 8/24/1994, 59 FR 43483. |
16-010 | Definitions | 7/13/1993 | 8/24/1994, 59 FR 43483. |
16-100 | Civil Penalty Schedule | 7/13/1993 | 8/24/1994, 59 FR 43483. |
16-110 | Classification of Violations | 7/13/1993 | 8/24/1994, 59 FR 43483. |
16-120 | Notice of Violation | 7/13/1993 | 8/24/1994, 59 FR 43483. |
16-130 | Appeal of Civil Penalty | 7/13/1993 | 8/24/1994, 59 FR 43483. |
16-140 | Conducting Contested Case Evidentiary Hearings | 7/13/1993 | 8/24/1994, 59 FR 43483. |
16-150 | Evidentiary Rules | 7/13/1993 | 8/24/1994, 59 FR 43483. |
16-160 | Final Orders | 7/13/1993 | 8/24/1994, 59 FR 43483. |
16-170 | Default Orders | 7/13/1993 | 8/24/1994, 59 FR 43483. |
Title 29—Designation of Air Quality Areas
29-0010 | Definitions | 3/23/2018 | 10/5/2018, 83 FR 50274. |
29-0020 | Designation of Air Quality Control Regions | 3/23/2018 | 10/5/2018, 83 FR 50274. |
29-0030 | Designation of Nonattainment Areas | 3/23/2018 | 10/5/2018, 83 FR 50274. |
29-0040 | Designation of Maintenance Areas | 3/23/2018 | 10/5/2018, 83 FR 50274. |
29-0050 | Designation of Prevention of Significant Deterioration Areas | 3/23/2018 | 10/5/2018, 83 FR 50274. |
29-0060 | Redesignation of Prevention of Significant Deterioration Areas | 3/23/2018 | 10/5/2018, 83 FR 50274. |
29-0070 | Special Control Areas | 3/31/2014 | 10/5/2018, 83 FR 50274. |
29-0080 | Motor Vehicle Inspection Boundary Designations | 3/31/2014 | 10/5/2018, 83 FR 50274. |
29-0090 | Oxygenated Gasoline Control Areas | 3/31/2014 | 10/5/2018, 83 FR 50274. |
Designation of Areas
29-0300 | Designation of Sustainment Areas | 3/23/2018 | 10/5/2018, 83 FR 50274. |
29-0310 | Designation of Reattainment Areas | 3/23/2018 | 10/5/2018, 83 FR 50274. |
29-0320 | Priority Sources | 3/23/2018 | 10/5/2018, 83 FR 50274. |
Title 30—Incinerator Regulations
30-010 | Definitions | 3/23/2018 | 10/5/2018, 83 FR 50274. |
30-015 | Best Available Control Technology for Solid and Infectious Waste Incinerators | 3/31/2014 | 10/5/2018, 83 FR 50274. |
30-020 | Emission Limitations for Solid and Infectious Waste Incinerators | 3/31/2014 | 10/5/2018, 83 FR 50274 | Except (2) and (8).
30-025 | Design and Operation for Solid and Infectious Waste Incinerators | 3/31/2014 | 10/5/2018, 83 FR 50274 | Except (9).
30-030 | Continuous Emission Monitoring for Solid and Infectious Waste Incinerators | 3/31/2014 | 10/5/2018, 83 FR 50274 | Except (1)(I) and (2)(E).
30-035 | Reporting and Testing for Solid and Infectious Waste Incinerators | 3/31/2014 | 10/5/2018, 83 FR 50274. |
30-040 | Compliance for Solid and Infectious Waste Incinerators | 3/31/2014 | 10/5/2018, 83 FR 50274. |
30-045 | Emission Limitations of Crematory Incinerators | 3/31/2014 | 10/5/2018, 83 FR 50274 | Except (3).
30-050 | Design and Operation of Crematory Incinerators | 3/31/2014 | 10/5/2018, 83 FR 50274. |
30-055 | Monitoring and Reporting for Crematory Incinerators | 3/31/2014 | 10/5/2018, 83 FR 50274. |
30-060 | Compliance of Crematory Incinerators | 3/31/2014 | 10/5/2018, 83 FR 50274. |
Title 31—Public Participation
31-0010 | Purpose | 3/23/2018 | 10/5/2018, 83 FR 50274. |
31-0020 | Applicability | 3/23/2018 | 10/5/2018, 83 FR 50274. |
31-0030 | Public Notice Categories and Timing | 3/23/2018 | 10/5/2018, 83 FR 50274. |
31-0040 | Public Notice Information | 3/23/2018 | 10/5/2018, 83 FR 50274. |
31-0050 | Public Notice Procedures | 3/23/2018 | 10/5/2018, 83 FR 50274. |
31-0060 | Persons Required to be Notified | 3/23/2018 | 10/5/2018, 83 FR 50274. |
31-0080 | Issuance or Denial of Permit | 3/23/2018 | 10/5/2018, 83 FR 50274. |
Title 32—Emission Standards
32-001 | Definitions | 3/23/2018 | 10/5/2018, 83 FR 50274. |
32-005 | Highest and Best Practicable Treatment and Control Required | 3/23/2018 | 10/5/2018, 83 FR 50274. |
32-006 | Pollution Prevention | 3/23/2018 | 10/5/2018, 83 FR 50274. |
32-007 | Operating and Maintenance Requirements | 3/23/2018 | 10/5/2018, 83 FR 50274. |
32-008 | Typically-Achievable Control Technology Requirements | 3/23/2018 | 10/5/2018, 83 FR 50274. |
32-009 | Additional Control Requirements for Stationary Sources of Air Contaminants | 3/23/2018 | 10/5/2018, 83 FR 50274. |
32-010 | Visible Air Contaminant Limitations | 3/23/2018 | 10/5/2018, 83 FR 50274. |
32-015 | Particulate Matter Emission Limitations for Sources Other than Fuel Burning Equipment, Refuse Burning Equipment, and Fugitive Emissions | 3/23/2018 | 10/5/2018, 83 FR 50274. |
32-020 | Particulate Matter Weight Standards—Existing Combustion Sources | 3/23/2018 | 10/5/2018, 83 FR 50274. |
32-030 | Particulate Matter Weight Standards—New Combustion Sources | 3/23/2018 | 10/5/2018, 83 FR 50274. |
32-045 | Process Weight Emission Limitations and Determination of Process Weight | 3/23/2018 | 10/5/2018, 83 FR 50274. |
32-050 | Concealment and Masking of Emissions | 3/23/2018 | 10/5/2018, 83 FR 50274. |
32-060 | Air Conveying Systems | 3/23/2018 | 10/5/2018, 83 FR 50274. |
Gaseous Emission Limitations
32-065 | Sulfur Content of Fuels | 3/23/2018 | 10/5/2018, 83 FR 50274. |
32-070 | Sulfur Dioxide Emission Limitations | 3/23/2018 | 10/5/2018, 83 FR 50274. |
32-090 | Other Emissions | 3/31/2014 | 10/5/2018, 83 FR 50274. |
32-100 | Alternative Emission Controls (Bubble) | 3/23/2018 | 10/5/2018, 83 FR 50274. |
32-8010 | Particulate Matter Emissions Standards for Process Equipment | 3/23/2018 | 10/5/2018, 83 FR 50274. |
Title 33—Prohibited Practices and Control of Special Classes of Industry
33-005 | Definitions | 3/23/2018 | 10/5/2018, 83 FR 50274. |
33-060 | Board Products Industries (Hardboard, Particleboard, Plywood, Veneer) | 3/23/2018 | 10/5/2018, 83 FR 50274. |
33-065 | Charcoal Producing Plants | 3/23/2018 | 10/5/2018, 83 FR 50274. |
33-070 | Kraft Pulp Mills | 3/23/2018 | 10/5/2018, 83 FR 50274 | Except in (1) the definitions of “non-condensables”, “other sources”, and “TRS”, (3)(a), (4)(b) (5)(b), (6)(a), and (6)(b).
33-500 | Particulate Matter Emissions Standards for Process Equipment | 3/23/2018 | 10/5/2018, 83 FR 50274. |
Title 34—Stationary Source Notification Requirements
34-005 | Definitions | 3/23/2018 | 10/5/2018, 83 FR 50274. |
34-010 | Applicability | 3/23/2018 | 10/5/2018, 83 FR 50274. |
34-015 | Request for Information | 3/23/2018 | 10/5/2018, 83 FR 50274. |
34-016 | Records: Maintaining and Reporting | 3/23/2018 | 10/5/2018, 83 FR 50274. |
34-017 | Enforcement; Credible Evidence | 3/23/2018 | 10/5/2018, 83 FR 50274. |
34-020 | Information Exempt from Disclosure | 3/23/2018 | 10/5/2018, 83 FR 50274. |
Registration
34-025 | Registration is General | 3/23/2018 | 10/5/2018, 83 FR 50274. |
34-030 | Source Registration Requirements and Re-Registration and Maintaining Registration | 3/23/2018 | 10/5/2018, 83 FR 50274. |
Notice of Construction and Approval of Plans
34-034 | Requirements for Construction | 3/23/2018 | 10/5/2018, 83 FR 50274. |
34-035 | Types of Construction/Modification Changes | 3/23/2018 | 10/5/2018, 83 FR 50274. |
34-036 | Notice to Construct | 3/23/2018 | 10/5/2018, 83 FR 50274. |
34-037 | Construction Approval | 3/23/2018 | 10/5/2018, 83 FR 50274. |
34-038 | Approval to Operate | 3/23/2018 | 10/5/2018, 83 FR 50274. |
Title 35—Stationary Source Testing and Monitoring
35-0010 | Definitions | 3/23/2018 | 10/5/2018, 83 FR 50274. |
Sampling, Testing and Measurement
35-0110 | Applicability | 3/23/2018 | 10/5/2018, 83 FR 50274. |
35-0120 | Program | 3/23/2018 | 10/5/2018, 83 FR 50274. |
35-0130 | Stack Heights and Dispersion Techniques | 3/23/2018 | 10/5/2018, 83 FR 50274. |
35-0140 | Methods | 3/23/2018 | 10/5/2018, 83 FR 50274. |
35-0150 | LRAPA Testing | 3/31/2014 | 10/5/2018, 83 FR 50274. |
Title 37—Air Contaminant Discharge Permits
37-0010 | Purpose | 3/23/2018 | 10/5/2018, 83 FR 50274. |
37-0020 | Applicability and Jurisdiction | 3/23/2018 | 10/5/2018, 83 FR 50274. |
37-0025 | Types of Permits | 3/23/2018 | 10/5/2018, 83 FR 50274. |
37-0030 | Definitions | 3/23/2018 | 10/5/2018, 83 FR 50274. |
37-0040 | Application Requirements | 3/23/2018 | 10/5/2018, 83 FR 50274. |
37-0052 | Construction ACDP | 3/23/2018 | 10/5/2018, 83 FR 50274. |
37-0054 | Short Term Activity ACDPs | 3/23/2018 | 10/5/2018, 83 FR 50274. |
37-0056 | Basic ACDPs | 3/23/2018 | 10/5/2018, 83 FR 50274. |
37-0060 | General Air Contaminant Discharge Permits | 3/23/2018 | 10/5/2018, 83 FR 50274. |
37-0062 | General ACDP Attachments | 3/23/2018 | 10/5/2018, 83 FR 50274. |
37-0064 | Simple ACDPs | 3/23/2018 | 10/5/2018, 83 FR 50274. |
37-0066 | Standard ACDPs | 3/23/2018 | 10/5/2018, 83 FR 50274. |
37-0068 | Simple and Standard ACDP Attachments | 3/23/2018 | 10/5/2018, 83 FR 50274. |
37-0070 | Permitting a Source with Multiple Activities or Processes at a Single Adjacent or Contiguous Site | 3/23/2018 | 10/5/2018, 83 FR 50274. |
37-0082 | Termination or Revocation of an ACDP | 3/23/2018 | 10/5/2018, 83 FR 50274. |
37-0084 | LRAPA-Initiated Modification | 3/23/2018 | 10/5/2018, 83 FR 50274. |
37-0090 | Sources Subject to ACDPs and Fees | 3/23/2018 | 10/5/2018, 83 FR 50274. |
37-0094 | Temporary Closure | 3/23/2018 | 10/5/2018, 83 FR 50274. |
37-8010 | Table 1—Activities and Sources | 3/23/2018 | 10/5/2018, 83 FR 50274. |
37-8020 | Table 2—Air Contaminant Discharge Permits | 3/23/2018 | 10/5/2018, 83 FR 50274. |
Title 38—New Source Review
38-0010 | Applicability and General Prohibitions, General Requirements and Jurisdiction | 3/23/2018 | 10/5/2018, 83 FR 50274. |
38-0020 | Definitions | 3/23/2018 | 10/5/2018, 83 FR 50274. |
38-0025 | Major Modification | 3/23/2018 | 10/5/2018, 83 FR 50274. |
38-0030 | New Source Review Procedural Requirements | 3/23/2018 | 10/5/2018, 83 FR 50274. |
38-0034 | Exemptions | 3/23/2018 | 10/5/2018, 83 FR 50274. |
38-0038 | Fugitive and Secondary Emissions | 3/23/2018 | 10/5/2018, 83 FR 50274. |
38-0040 | Review of Sources Subject to Major NSR or Type A State NSR for Compliance With Regulations | 3/23/2018 | 10/5/2018, 83 FR 50274. |
Major New Source Review
38-0045 | Requirements for Sources in Sustainment Areas | 3/23/2018 | 10/5/2018, 83 FR 50274. |
38-0050 | Requirements for Sources in Nonattainment Areas | 3/23/2018 | 10/5/2018, 83 FR 50274. |
38-0055 | Requirements for Sources in Reattainment Areas | 3/23/2018 | 10/5/2018, 83 FR 50274. |
38-0060 | Records; Maintaining and Reporting | 3/23/2018 | 10/5/2018, 83 FR 50274. |
38-0070 | Prevention of Significant Deterioration Requirements for Sources in Attainment or Unclassified Areas | 3/23/2018 | 10/5/2018, 83 FR 50274. |
State New Source Review
38-0245 | Requirements for Sources in Sustainment Areas | 3/23/2018 | 10/5/2018, 83 FR 50274. |
38-0250 | Requirements for Sources in Nonattainment Areas | 3/23/2018 | 10/5/2018, 83 FR 50274. |
38-0255 | Requirements for Sources in Reattainment Areas | 3/23/2018 | 10/5/2018, 83 FR 50274. |
38-0260 | Requirements for Sources in Maintenance Areas | 3/23/2018 | 10/5/2018, 83 FR 50274. |
38-0270 | Requirement for Sources in Attainment and Unclassified Areas | 3/23/2018 | 10/5/2018, 83 FR 50274. |
Net Air Quality Benefit Emission Offsets
38-0500 | Net Air Quality Benefit for Sources Locating Within or Impacting Designated Areas | 3/23/2018 | 10/5/2018, 83 FR 50274. |
38-0510 | Common Offset Requirements | 3/23/2018 | 10/5/2018, 83 FR 50274 | Except (3).
38-0530 | Requirements for Demonstrating Net Air Quality Benefit for Non-Ozone Areas | 3/23/2018 | 10/5/2018, 83 FR 50274. |
38-0540 | Sources in a Designated Area Impacting Other Designated Areas | 3/23/2018 | 10/5/2018, 83 FR 50274. |
Title 39—Contingency for PM10 Sources in Eugene-Springfield Non-Attainment Area
39-001 | Purpose | 11/13/1991 | 8/24/1994, 59 FR 43483. |
39-005 | Relation to Other Rules | 11/13/1991 | 8/24/1994, 59 FR 43483. |
39-010 | Applicability | 11/13/1991 | 8/24/1994, 59 FR 43483. |
39-015 | Definitions | 11/13/1991 | 8/24/1994, 59 FR 43483. |
39-020 | Compliance Schedule for Existing Sources | 11/13/1991 | 8/24/1994, 59 FR 43483. |
39-025 | Wood-Waste Boilers | 11/13/1991 | 8/24/1994, 59 FR 43483. |
39-030 | Veneer Dryers | 11/13/1991 | 8/24/1994, 59 FR 43483. |
39-035 | Particle Board Plants and Wood Particle Dryers | 11/13/1991 | 8/24/1994, 59 FR 43483. |
39-040 | Kraft Pulp Mills | 11/13/1991 | 8/24/1994, 59 FR 43483. |
39-050 | Air Conveying Systems | 11/13/1991 | 8/24/1994, 59 FR 43483. |
39-055 | Fugitive Dust | 11/13/1991 | 8/24/1994, 59 FR 43483. |
39-060 | Open Burning | 11/13/1991 | 8/24/1994, 59 FR 43483. |
Title 40—Air Quality Analysis Requirements
40-0010 | Purpose | 3/23/2018 | 10/5/2018, 83 FR 50274. |
40-0020 | Definitions | 3/23/2018 | 10/5/2018, 83 FR 50274. |
40-0030 | Procedural Requirements | 3/23/2018 | 10/5/2018, 83 FR 50274. |
40-0040 | Air Quality Models | 3/23/2018 | 10/5/2018, 83 FR 50274. |
40-0045 | Requirements for Analysis in Maintenance Areas | 3/23/2018 | 10/5/2018, 83 FR 50274. |
40-0050 | Requirements for Analysis in PSD Class II and Class III Areas | 3/23/2018 | 10/5/2018, 83 FR 50274. |
40-0060 | Requirements for Demonstrating Compliance with Standards and Increments in PSD Class I Areas | 3/23/2018 | 10/5/2018, 83 FR 50274. |
40-0070 | Requirements for Demonstrating Compliance with Air Quality Related Values Protection | 3/23/2018 | 10/5/2018, 83 FR 50274. |
Title 41—Emission Reduction Credits
41-0010 | Applicability | 3/31/2014 | 10/5/2018, 83 FR 50274. |
41-0020 | Definitions | 3/23/2018 | 10/5/2018, 83 FR 50274. |
41-0030 | Emission Reduction Credits | 3/23/2018 | 10/5/2018, 83 FR 50274. |
Title 42—Stationary Source Plant Site Emission Limits
42-0010 | Policy | 3/23/2018 | 10/5/2018, 83 FR 50274. |
42-0020 | Applicability | 3/23/2018 | 10/5/2018, 83 FR 50274. |
42-0030 | Definitions | 3/23/2018 | 10/5/2018, 83 FR 50274. |
Criteria for Establishing Plant Site Emission Limits
42-0035 | General Requirements for Establishing All PSELs | 3/23/2018 | 10/5/2018, 83 FR 50274. |
42-0040 | Generic Annual PSEL | 3/23/2018 | 10/5/2018, 83 FR 50274. |
42-0041 | Source Specific Annual PSEL | 3/23/2018 | 10/5/2018, 83 FR 50274. |
42-0042 | Short Term PSEL | 3/23/2018 | 10/5/2018, 83 FR 50274. |
42-0046 | Netting Basis | 3/23/2018 | 10/5/2018, 83 FR 50274. |
42-0048 | Baseline Period and Baseline Emission Rate | 3/23/2018 | 10/5/2018, 83 FR 50274. |
42-0051 | Actual Emissions | 3/23/2018 | 10/5/2018, 83 FR 50274. |
42-0055 | Unassigned Emissions | 3/23/2018 | 10/5/2018, 83 FR 50274. |
42-0080 | Plant Site Emission Limit Compliance | 3/23/2018 | 10/5/2018, 83 FR 50274. |
42-0090 | Combining and Splitting Sources and Changing Primary SIC Code | 3/23/2018 | 10/5/2018, 83 FR 50274. |
Title 47—Rules for Outdoor Burning
47-001 | General Policy | 7/13/2018 | 2/20/2019, 84 FR 5000. |
47-005 | Exemptions from these Rules | 7/13/2018 | 2/20/2019, 84 FR 5000. |
47-010 | Definitions | 7/13/2018 | 2/20/2019, 84 FR 5000 | Except the definition of “nuisance”.
47-015 | Open Burning Requirements | 7/13/2018 | 2/20/2019, 84 FR 5000 | Except (1)(d) and (1)(h).
47-020 | Letter Permits | 7/13/2018 | 2/20/2019, 84 FR 5000 | Except (3), (9)(i), and (10).
Title 48—Rules for Fugitive Emissions
48-001 | General Policy | 3/23/2018 | 10/5/2018, 83 FR 50274. |
48-005 | Definitions | 3/23/2018 | 10/5/2018, 83 FR 50274. |
48-010 | General Applicability | 3/23/2018 | 10/5/2018, 83 FR 50274. |
48-015 | General Requirements for Fugitive Emissions | 3/23/2018 | 10/5/2018, 83 FR 50274. |
Title 50—Ambient Air Standards and PSD Increments
50-001 | Definitions | 3/23/2018 | 10/5/2018, 83 FR 50274. |
Ambient Air Quality Standards
50-005 | Purpose and Scope of Ambient Air Quality Standards | 3/23/2018 | 10/5/2018, 83 FR 50274. |
50-015 | Suspended Particulate Matter | 3/23/2018 | 10/5/2018, 83 FR 50274. |
50-025 | Sulfur Dioxide | 3/23/2018 | 10/5/2018, 83 FR 50274. |
50-030 | Carbon Monoxide | 3/23/2018 | 10/5/2018, 83 FR 50274. |
50-035 | Ozone | 3/23/2018 | 10/5/2018, 83 FR 50274. |
50-040 | Nitrogen Dioxide | 3/23/2018 | 10/5/2018, 83 FR 50274. |
50-045 | Lead | 3/23/2018 | 10/5/2018, 83 FR 50274. |
PSD Increments
50-050 | General | 3/23/2018 | 10/5/2018, 83 FR 50274. |
50-055 | Ambient Air PSD Increments | 3/23/2018 | 10/5/2018, 83 FR 50274. |
50-060 | Ambient Air Ceilings | 3/31/2014 | 10/5/2018, 83 FR 50274. |
50-065 | Ambient Air Quality Impact Levels for Maintenance Areas | 3/23/2018 | 10/5/2018, 83 FR 50274. |
Title 51—Air Pollution Emergencies
51-005 | Introduction | 3/23/2018 | 10/5/2018, 83 FR 50274. |
51-007 | Definitions | 3/23/2018 | 10/5/2018, 83 FR 50274. |
51-010 | Episode Stage Criteria for Air Pollution Emergencies | 3/23/2018 | 10/5/2018, 83 FR 50274. |
51-011 | Special Conditions | 3/23/2018 | 10/5/2018, 83 FR 50274. |
51-015 | Source Emission Reduction Plans | 3/23/2018 | 10/5/2018, 83 FR 50274. |
51-020 | Preplanned Abatement Strategies | 3/23/2018 | 10/5/2018, 83 FR 50274. |
51-025 | Implementation | 3/23/2018 | 10/5/2018, 83 FR 50274. |
Table I | Air Pollution Episode, Alert Conditions Emission Reduction Plan | 3/23/2018 | 10/5/2018, 83 FR 50274. |
Table II | Air Pollution Episode, Warning Conditions Emission Reduction Plan | 3/23/2018 | 10/5/2018, 83 FR 50274. |
Table III | Air Pollution Episode, Emergency Conditions Emission Reduction Plan | 3/23/2018 | 10/5/2018, 83 FR 50274. |
¹ EPA's approval is limited to the extent the provisions relate to section 110 of the Clean Air Act and determining compliance with and for purposes of implementation of SIP-approved requirements.

(d) EPA approved state source-specific requirements.

EPA Approved Oregon Source-Specific Requirements ¹
Name of source | Permit No. | State effective date | EPA approval date | Explanations
Industrial Laundry & Dry Cleaners | 26-3025 | 12/9/1980 | 8/27/1981, 46 FR 43142 | Air Contaminant Discharge Permit.
VANPLY, Inc.& Spalding Pulp & Paper Co | Stipulation and Consent Final Order | 12/30/1980 | 8/27/1981, 46 FR 43142 | Transfer by VANPLY, INC. of a VOC Offset to Spalding Pulp & Paper Co.
Spaulding Pulp and Paper Co | 36-6041 | 12/11/1980 | 8/27/1981, 46 FR 43142 | Air Contaminant Discharge Permit—Addendum No. 1.
Weyerhaeuser Company—Bly, Oregon | 18-0037 | 2/3/1981 | 11/6/1981, 46 FR 55101 | Air Contaminant Discharge Permit—Conditions 5 and 6.
Intel Corporation | 34-2681 | 9/24/1993 (State effective date of Title V Program) | 7/18/1996, 61 FR 37393 | Oregon Title-V Operating Permit—Page 11.
Cascade General (Port of Portland) | 26-3224 | 10/4/1995 | 3/7/1997, 62 FR 10455 | Air Contaminant Discharge Permit—Condition 19 of Addendum 2.
White Consolidated Inc | 34-2060 | 8/1/1995 | 3/7/1997, 62 FR 10455 | Air Contaminant Discharge Permit—Conditions 11,12 and 13 in Addendum No. 2.
PCC Structurals, Inc | 26-1867 | 4/4/1997 | 6/20/1997, 62 FR 33548 | Air Contaminant Discharge Permit—Conditions 19, 20 and 21 in Addendum No. 2.
Dura Industries | 26-3112 | 9/14/1995 | 3/31/1998, 63 FR 15293 | Air Contaminant Discharge Permit.
Ostrander Construction Company Fremont Sawmill | ACDP No. 19-0002 | 4/29/1998 | 9/21/1999, 64 FR 51051 | Air Contaminant Discharge Permit.
¹ The EPA does not have the authority to remove these source-specific requirements in the absence of a demonstration that their removal would not interfere with attainment or maintenance of the NAAQS, violate any prevention of significant deterioration increment or result in visibility impairment. The Oregon Department of Environmental Quality may request removal by submitting such a demonstration to the EPA as a SIP revision.

(e) EPA approved nonregulatory provisions and quasi-regulatory measures.

Table 1—Oregon State Statutes Approved But Not Incorporated by Reference
State citation | Title/subject | State effective date | EPA approval date | Explanations
ORS Chapter 468 | General Administration, Enforcement, Pollution Control Facilities Tax Credit | 11/4/1993 | 7/19/1995, 60 FR 37013
ORS Chapter 468A | Air Pollution Control, Regional Air Quality Control Authorities, Motor Vehicle Pollution Control, Field Burning and Propane | 11/4/1993 | 7/19/1995, 60 FR 37013 | Except 468A.075 and 468A.330.
ORS Chapter 468A.330 | Small Business Stationary Source Technical and Environmental Compliance Assistance Program | 11/4/1993 | 9/5/1995, 60 FR 46025

Table 2—Oregon Administrative Rules Approved But Not Incorporated by Reference
State citation | Title/subject | State effective date | EPA approval date | Explanations
Oregon Administrative Rules
Division 11—Rules of General Applicability and Organization
011-0005 | Definitions | 1/6/2014 | 10/23/2015, 80 FR 64346
011-0009 | Incorporation of Attorney General's Uniform and Model Rules | 3/20/2008 | 4/25/2013, 78 FR 24347
011-0010 | Notice of Rulemaking | 3/20/2008 | 4/25/2013, 78 FR 24347
011-0024 | Rulemaking Process | 1/6/2014 | 10/23/2015, 80 FR 64346
011-0029 | Policy on Disclosure of the Relationship Between Proposed Rules and Federal Requirements | 1/6/2014 | 10/23/2015, 80 FR 64346
011-0046 | Petition to Promulgate, Amend, or Repeal Rule: Content of Petition, Filing or Petition | 1/6/2014 | 10/23/2015, 80 FR 64346
011-0053 | Periodic Rule Review | 1/6/2014 | 10/23/2015, 80 FR 64346
011-0061 | Declaratory Ruling: Institution of Proceedings, Consideration of Petition and Disposition of Petition | 1/6/2014 | 10/23/2015, 80 FR 64346
011-0310 | Purpose | 1/6/2014 | 10/23/2015, 80 FR 64346
011-0330 | Requests for Review or to Obtain Copies of Public Records | 1/6/2014 | 10/23/2015, 80 FR 64346
011-0340 | Costs for Record Review and Copying | 1/6/2014 | 10/23/2015, 80 FR 64346
011-0360 | Collecting Fees | 1/6/2014 | 10/23/2015, 80 FR 64346
011-0370 | Certification of Copies of Records | 1/6/2014 | 10/23/2015, 80 FR 64346
011-0380 | Fee Waivers and Reductions | 1/6/2014 | 10/23/2015, 80 FR 64346
011-0390 | Exempt Records | 1/6/2014 | 10/23/2015, 80 FR 64346
011-0500 | Contested Case Proceedings Generally | 1/6/2014 | 10/23/2015, 80 FR 64346
011-0510 | Agency Representation by Environmental Law Specialist | 1/6/2014 | 10/23/2015, 80 FR 64346
011-0515 | Authorized Representative of a Participant other than a Natural Person in a Contested Case Hearing | 1/6/2014 | 10/23/2015, 80 FR 64346
011-0520 | Liability for the Acts of a Person's Employees | 1/6/2014 | 10/23/2015, 80 FR 64346
011-0525 | Service and Filing of Documents | 1/6/2014 | 10/23/2015, 80 FR 64346
011-0530 | Requests for Hearing | 1/6/2014 | 10/23/2015, 80 FR 64346
011-0535 | Final Orders by Default | 1/6/2014 | 10/23/2015, 80 FR 64346
011-0540 | Consolidation or Bifurcation of Contested Case Hearings | 1/6/2014 | 10/23/2015, 80 FR 64346
011-0545 | Burden and Standard of Proof in Contested Case Hearings; DEQ Interpretation of Rules and Statutory Terms | 1/6/2014 | 10/23/2015, 80 FR 64346
011-0550 | Discovery | 1/6/2014 | 10/23/2015, 80 FR 64346
011-0555 | Subpoenas | 1/6/2014 | 10/23/2015, 80 FR 64346
011-0565 | Immediate Review | 1/6/2014 | 10/23/2015, 80 FR 64346
011-0570 | Permissible Scope of Hearing | 1/6/2014 | 10/23/2015, 80 FR 64346
011-0573 | Proposed Orders in Contested Cases | 1/6/2014 | 10/23/2015, 80 FR 64346
011-0575 | Review of Proposed Orders in Contested Cases | 1/6/2014 | 10/23/2015, 80 FR 64346
011-0580 | Petitions for Reconsideration or Rehearing | 1/6/2014 | 10/23/2015, 80 FR 64346
011-0585 | Petitions for a Stay of the Effect of a Final Order | 1/6/2014 | 10/23/2015, 80 FR 64346
Division 12—Enforcement Procedure and Civil Penalties
012-0026 | Policy | 1/6/2014 | 10/23/2015, 80 FR 64346
012-0027 | Rule Effective Date | 3/29/2006 | 4/25/2013, 78 FR 24347
012-0028 | Scope of Applicability | 1/6/2014 | 10/23/2015, 80 FR 64346
012-0030 | Definitions | 1/6/2014 | 10/23/2015, 80 FR 64346
012-0038 | Warning Letters, Pre-Enforcement Notices and Notices of Permit Violation | 1/6/2014 | 10/23/2015, 80 FR 64346
012-0041 | Formal Enforcement Actions | 1/6/2014 | 10/23/2015, 80 FR 64346
012-0042 | Determination of Base Penalty | 5/13/2005 | 4/25/2013, 78 FR 24347
012-0045 | Civil Penalty Determination Procedure | 1/6/2014 | 10/23/2015, 80 FR 64346
012-0053 | Classification of Violations that Apply to all Programs | 1/6/2014 | 10/23/2015, 80 FR 64346
012-0054 | Air Quality Classification of Violations | 1/6/2014 | 10/23/2015, 80 FR 64346
012-0073 | Environmental Cleanup Classification of Violation | 3/29/2006 | 4/25/2013, 78 FR 24347
012-0082 | Contingency Planning Classification of Violations | 3/29/2006 | 4/25/2013, 78 FR 24347
012-0130 | Determination of Violation Magnitude | 1/6/2014 | 10/23/2015, 80 FR 64346
012-0135 | Selected Magnitude Categories | 1/6/2014 | 10/23/2015, 80 FR 64346
012-0140 | Determination of Base Penalty | 1/6/2014 | 10/23/2015, 80 FR 64346
012-0145 | Determination of Aggravating or Mitigating Factors | 1/6/2014 | 10/23/2015, 80 FR 64346
012-0150 | Determination of Economic Benefit | 1/6/2014 | 10/23/2015, 80 FR 64346
012-0155 | Additional or Alternate Civil Penalties | 1/6/2014 | 10/23/2015, 80 FR 64346
012-0160 | DEQ Discretion Regarding Penalty Assessment | 1/6/2014 | 10/23/2015, 80 FR 64346
012-0162 | Inability to Pay the Penalty | 1/6/2014 | 10/23/2015, 80 FR 64346
012-0165 | Stipulated Penalties | 1/6/2014 | 10/23/2015, 80 FR 64346
012-0170 | Compromise or Settlement of Civil Penalty by DEQ | 1/6/2014 | 10/23/2015, 80 FR 64346
Division 200—General Air Pollution Procedures and Definitions
Conflicts of Interest
200-0100 | Purpose | 4/16/2015 | 10/11/2017, 82 FR 47122
200-0110 | Public Interest Representation | 4/16/2015 | 10/11/2017, 82 FR 47122
200-0120 | Disclosure of Potential Conflicts of Interest | 4/16/2015 | 10/11/2017, 82 FR 47122
Division 209—Public Participation
209-0070 | Hearing Procedures | 4/16/2015 | 10/11/2017, 82 FR 47122
Division 262—Heat Smart Program for Residential Wood Stoves and Other Solid Fuel Heating Devices
262-0050 | Residential Woodheating—Civil Penalties | 10/14/1999 | 1/22/2003, 68 FR 2891

Table 3—Lane Regional Air Protection Agency Regulations Approved But Not Incorporated by Reference
LRAPA citation | Title/subject | State effective date | EPA approval date | Explanations
Title 13—General Duties and Powers of Board and Director
13-005 | Authority of the Agency | 3/31/2014 | 10/5/2018, 83 FR 50274. |
13-010 | Duties and Powers of the Board of Directors | 3/31/2014 | 10/5/2018, 83 FR 50274. |
13-020 | Duties and Function of the Director | 3/31/2014 | 10/5/2018, 83 FR 50274. |
13-025 | Conflict of Interest | 3/31/2014 | 10/5/2018, 83 FR 50274. |
13-030 | Advisory Committee | 3/31/2014 | 10/5/2018, 83 FR 50274. |
13-035 | Public Records and Confidential Information | 3/31/2014 | 10/5/2018, 83 FR 50274. |
Title 14—Rules of Practice and Procedure
14-110 | Definitions | 3/23/2018 | 10/5/2018, 83 FR 50274. |
Rulemaking
14-115 | Rulemaking Notice | 3/23/2018 | 10/5/2018, 83 FR 50274. |
14-120 | Rulemaking Hearings and Process | 3/23/2018 | 10/5/2018, 83 FR 50274. |
14-125 | Temporary Rules | 3/23/2018 | 10/5/2018, 83 FR 50274. |
14-130 | Petition to Promulgate, Amend or Repeal Rule—Content of Petition, Filing of Petition | 3/23/2018 | 10/5/2018, 83 FR 50274. |
14-135 | Declaratory Rulings | 3/23/2018 | 10/5/2018, 83 FR 50274. |
Contested Cases
14-140 | Contested Case Proceedings Generally | 3/23/2018 | 10/5/2018, 83 FR 50274. |
14-145 | Agency Representation by Environmental Law Specialist | 3/23/2018 | 10/5/2018, 83 FR 50274. |
14-147 | Authorized Representative of Respondent other than a Natural Person in a Contested Case Hearing | 3/23/2018 | 10/5/2018, 83 FR 50274. |
14-150 | Liability for the Acts of a Person's Employees | 3/23/2018 | 10/5/2018, 83 FR 50274. |
14-155 | Consolidation or Bifurcation of Contested Case Hearings | 3/23/2018 | 10/5/2018, 83 FR 50274. |
14-160 | Final Orders | 3/23/2018 | 10/5/2018, 83 FR 50274. |
14-165 | Default Orders | 3/23/2018 | 10/5/2018, 83 FR 50274. |
14-170 | Appeal to the Board | 3/23/2018 | 10/5/2018, 83 FR 50274. |
14-175 | Power of the Director | 3/23/2018 | 10/5/2018, 83 FR 50274. |
14-185 | Request for Stay Pending Judicial Review | 3/23/2018 | 10/5/2018, 83 FR 50274. |
14-190 | Request for Stay—Motion to Intervene | 3/23/2018 | 10/5/2018, 83 FR 50274. |
14-200 | Request for Stay—Agency Determination | 3/23/2018 | 10/5/2018, 83 FR 50274. |
14-205 | Request for Stay—Time Frames | 3/23/2018 | 10/5/2018, 83 FR 50274. |
Title 15—Enforcement Procedures and Civil Penalties
15-001 | Policy | 9/14/2018 | 2/20/2019, 84 FR 5000. |
15-003 | Scope of Applicability | 6/13/1995 | 8/3/2001, 66 FR 40616. |
15-005 | Definitions | 9/14/2018 | 2/20/2019, 84 FR 5000. |
15-010 | Consolidation of Proceedings | 6/13/1995 | 8/3/2001, 66 FR 40616. |
15-015 | Notice of Violation | 9/14/2018 | 2/20/2019, 84 FR 5000. |
15-018 | Notice of Permit Violations and Exceptions | 9/14/2018 | 2/20/2019, 84 FR 5000. |
15-020 | Enforcement Actions | 9/14/2018 | 2/20/2019, 84 FR 5000. |
15-025 | Civil Penalty Schedule Matrices | 9/14/2018 | 2/20/2019, 84 FR 5000. |
15-030 | Civil Penalty Determination Procedure (Mitigating and Aggravating Factors) | 9/14/2018 | 2/20/2019, 84 FR 5000. |
15-035 | Written Notice of Civil Penalty Assessment—When Penalty Payable | 9/14/2018 | 2/20/2019, 84 FR 5000. |
15-040 | Compromise or Settlement of Civil Penalty by Director | 9/14/2018 | 2/20/2019, 84 FR 5000. |
15-045 | Stipulated Penalties | 9/14/2018 | 2/20/2019, 84 FR 5000. |
15-050 | Additional Civil Penalties | 6/13/1995 | 8/3/2001, 66 FR 40616. |
15-055 | Air Quality Classification of Violation | 9/14/2018 | 2/20/2019, 84 FR 5000. |
15-057 | Determination of Violation Magnitude | 9/14/2018 | 2/20/2019, 84 FR 5000. |
15-060 | Selected Magnitude Categories | 9/14/2018 | 2/20/2019, 84 FR 5000. |
15-065 | Appeals | 9/14/2018 | 2/20/2019, 84 FR 5000. |
Title 31—Public Participation
31-0070 | Hearing Procedures | 3/23/2018 | 10/5/2018, 83 FR 50274. |

Table 4—City and County Ordinances Approved But Not Incorporated by Reference
Agency and ordinance | Title or subject | Date | EPA approval date | Explanations
Codified Ordinances of Jackson County 1810.09 | Abatement; Legal Proceedings | 12/20/1989 (county passed) | 6/19/2006, 71 FR 35163. |
Codified Ordinances of Jackson County 1810.99 | Penalty | 10/29/2003 (county passed) | 6/19/2006, 71 FR 35163. |
Code of the City of Medford, Oregon: 7.226 | Abatement; Legal Proceedings | 11/20/1989 (county effective) | 6/19/2006, 71 FR 35163. |
Code of the City of Medford, Oregon: 7.300 | Penalty | 4/6/2000 (county effective) | 6/19/2006, 71 FR 35163. |
City of Central Point Municipal Code: 8.04.100 | Abatement-Notice | 1966 (city effective) | 6/19/2006, 71 FR 35163. |
City of Central Point Municipal Code: 8.04.110 | Abatement-By owner | 1966 (city effective) | 6/19/2006, 71 FR 35163. |
City of Central Point Municipal Code: 8.04.120 | Abatement-By city | 1966 (city effective) | 6/19/2006, 71 FR 35163. |
City of Central Point Municipal Code: 8.04.130 | Abatement-Assessment of costs | 1966 (city effective) | 6/19/2006, 71 FR 35163. |
City of Central Point Municipal Code: 8.04.140 | Summary abatement | 1966 (city effective) | 6/19/2006, 71 FR 35163. |
City of Central Point Municipal Code: 8.04.150 | Penalty | 1995 (city effective) | 6/19/2006, 71 FR 35163. |
City of Ashland Municipal Code: 10.30.050 | Definitions | 1993 (city effective) | 6/19/2006, 71 FR 35163. |
City of Ashland Municipal Code: 9.24.060 | Penalty | 1998 (city effective) | 6/19/2006, 71 FR 35163. |

Table 5—State of Oregon Air Quality Control Program Approved But Not Incorporated By Reference
Name of SIP provision | Applicable geographic or nonattainment area | State submittal date | EPA approval date | Explanations
Volume 2—The Federal Clean Air Act Implementation Plan
Section 1—Introduction
Introduction | Statewide | 5/31/1986; 7/11/1986 | 7/30/1991, 56 FR 36006. |
Section 2—General Administration
General Administration | Statewide | 5/31/1986; 7/11/1986 | 7/30/1991, 56 FR 36006. |
Agency Organization | Statewide | 5/31/1986; 7/11/1986 | 7/30/1991, 56 FR 36006. |
Legal Authority | Statewide | 7/29/1992 | 7/19/1995, 60 FR 37013. |
Resources | Statewide | 5/31/1986; 7/11/1986 | 7/30/1991, 56 FR 36006. |
Intergovernmental cooperation | Statewide | 5/31/1986; 7/11/1986 | 7/30/1991, 56 FR 36006. |
Miscellaneous Provisions | Statewide | 5/31/1986; 7/11/1986 | 7/30/1991, 56 FR 36006. |
Small Business Assistance Program | Statewide | 11/16/1992 | 9/05/1995, 60 FR 46025. |
Section 3—Statewide Regulatory Provisions
Statewide Regulatory Provisions | Statewide | 5/31/1986; 7/11/1986 | 7/30/1991, 56 FR 36006 | Refer to section (c) and (d) for approved regulations incorporated by reference.
Oregon Administrative Rules and Source-Specific RACT determinations | Statewide | 5/31/1986; 7/11/1986 | 7/30/1991, 56 FR 36006 | Refer to section (c) for approved regulations incorporated by reference and section (d) for Source-Specific RACT determinations.
Lane Regional Air Protection Agency Regulations | Lane County | 5/31/1986; 7/11/1986 | 7/30/1991, 56 FR 36006 | Refer to section (c) for approved regulations incorporated by reference.
Smoke Management Plan Administrative Rule | Statewide | 5/31/1986; 7/11/1986 | 7/30/1991, 56 FR 36006 | Refer to section (c) for approved regulations incorporated by reference (OAR chapter 629 43-043).
Section 4—Control Strategies for Nonattainment Areas
Introduction | Statewide | 5/31/1986; 7/11/1986 | 7/30/1991, 56 FR 36006. |
Attainment and Maintenance Planning—Carbon Monoxide (CO)
Carbon Monoxide Attainment Plan | Salem | 6/20/1979; 6/29/1979 | 6/24/1980, 45 FR 42265. |
Carbon Monoxide Attainment Plan | Eugene-Springfield | 6/20/1979; 6/29/1979 | 6/24/1980, 45 FR 42265. |
Carbon Monoxide Attainment Plan | Portland-Vancouver | 7/20/1982 | 10/07/1982, 47 FR 44261. |
Carbon Monoxide Attainment Plan | Medford-Ashland | 10/09/1985 | 2/13/1987, 52 FR 4620. |
Carbon Monoxide Attainment Plan | Grants Pass | 11/24/1986 | 1/15/1988, 53 FR 1020. |
Carbon Monoxide Maintenance Plan | Eugene-Springfield | 12/28/1989 | 12/06/1993, 58 FR 64161. |
Carbon Monoxide Attainment Plan | Grants Pass, Medford, Portland and Klamath Falls | 11/15/1993 | 6/28/1994, 59 FR 33202 | CO contingency plan revision to satisfy 172(c)(9).
Carbon Monoxide MaintenancePlan | Portland | 8/30/1996 | 9/02/1997, 62 FR 46208. |
Carbon Monoxide Maintenance Plan | Grants Pass | 11/10/1999 | 8/31/2000, 65 FR 52932. |
Carbon Monoxide Maintenance Plan | Klamath Falls | 11/20/2000 | 9/20/2001, 66 FR 48349. |
Carbon Monoxide Maintenance Plan | Medford | 5/31/2001 | 7/24/2002, 67 FR 48388. |
Carbon Monoxide 2nd 10-year Maintenance Plan | Portland | 12/27/2004 | 1/24/2006, 71 FR 3768. |
Carbon Monoxide Limited Maintenance Plan | Salem-Keizer | 8/09/2007 | 12/30/2008, 73 FR 79655. |
Carbon Monoxide 2nd 10-year Maintenance Plan Update | Portland | 1/14/2014 | 5/22/2014, 79 FR 29359 | TCM substitution.
Carbon Monoxide 2nd 10-year Limited Maintenance Plan | Grants Pass | 4/22/2015 | 7/28/2015, 80 FR 44864. |
Carbon Monoxide 2nd 10-year Limited Maintenance Plan | Medford | 12/11/2015 | 7/20/2016, 81 FR 47029. |
Attainment and Maintenance Planning—Ozone
Ozone Attainment Plan | Salem | 10/16/1980 | 4/12/1982, 47 FR 15587. |
Ozone Attainment Plan | Portland-Vancouver | 7/20/1982 | 10/07/1982, 47 FR 44261. |
Ozone Maintenance Plan | Medford-Ashland | 2/28/1985 | 6/04/1986, 51 FR 20285. |
Ozone Maintenance Plan | Portland-Vancouver | 8/30/1996 | 5/19/1997, 62 FR 27204. |
Ozone Maintenance Plan | Portland-Vancouver & Salem-Keizer | 8/09/2005; 5/22/2007 | 12/19/2011, 76 FR 78571 | Portland-Vancouver AQMA (Oregon portion) & Salem Kaizer Area 8-hour Ozone (110(a)(1)) Maintenance Plan.
Attainment and Maintenance Planning—Total Suspended Particulate (TSP)
TSP Attainment Plan | Portland-Vancouver | 3/24/1981 | 4/12/1982, 47 FR 15587. |
TSP Attainment Plan | Eugene-Springfield | 2/23/1981 | 4/12/1982, 47 FR 15587. |
TSP Attainment Plan | Medford-Ashland | 4/25/1983 | 8/15/1984, 49 FR 32574. |
Attainment and Maintenance Planning—Particulate Matter (PM10)
PM10 Attainment Plan | Grants Pass | 11/15/1991 | 12/17/1993, 58 FR 65934. |
PM10 Attainment Plan | Eugene-Springfield | 11/15/1991 | 8/24/1994, 59 FR 43483. |
PM10 Attainment Plan | LaGrande | 11/15/1991 | 3/15/1995, 60 FR 8563. |
PM10 Attainment Plan | Klamath Falls | 11/15/1991; 9/20/1995 | 4/14/1997, 62 FR 18047. |
PM10 Attainment Plan | Oakridge | 12/09/1996 | 3/15/1999, 64 FR 12751. |
PM10 Attainment Plan | Lakeview | 6/01/1995 | 9/21/1999, 64 FR 51051. |
PM10 Maintenance Plan | Klamath Falls | 11/04/2002 | 10/21/2003,68 FR 60036. |
PM10 Maintenance Plan | Grants Pass | 11/04/2002 | 10/27/2003, 68 FR 61111. |
PM10 Attainment Plan and Maintenance Plan | Medford-Ashland | 3/10/2005 | 6/19/2006, 71 FR 35163. |
PM10 Maintenance Plan | La Grande | 10/25/2005 | 6/19/2006, 71 FR 35161. |
PM10 Maintenance Plan | Lakeview | 10/25/2005 | 6/19/2006, 71 FR 35159. |
PM10 Limited Maintenance Plan | Eugene-Springfield | 1/13/2012 | 4/11/2013, 78 FR 21547. |
PM10 2nd 10-year Limited Maintenance Plan | Grants Pass | 4/22/2015 | 7/30/2015, 80 FR 45431. |
Attainment and Maintenance Planning—Particulate Matter (PM2.5)
PM2.5 Attainment Plan | Klamath Falls | 12/12/2012 | 6/06/2016, 81 FR 36176. |
2012 PM2.5 Attainment Plan | Oakridge-Westfir | 12/12/2012 | 10/21/2016, 81 FR 72714 | Attainment date extension see final rule published 7/18/2016.
Updated PM2.5 Attainment Plan | Oakridge-Westfir | 1/20/2017 | 2/08/2018, 83 FR 5537. |
Section 5—Control Strategies for Attainment and Nonattainment Areas
Control Strategies for Attainment and Nonattainment Areas | Statewide | 5/31/1986; 7/11/1986 | 7/30/1991, 56 FR 36006. |
Statewide Control Strategies for Lead | Statewide | 1/24/1983 | 5/18/1983, 48 FR 22298. |
Motor Vehicle Inspection and Maintenance | Statewide | 11/5/1999; 9/15/2000; 1/27/2000; 1/10/2003; 4/22/2004 | 11/27/2004, 69 FR 67819. |
Test Procedures and Standards | Statewide | 4/19/2004 | 11/22/2004, 69 FR 67819. |
Visibility Protection Plan | Statewide | 1/22/2003 | 3/15/2005, 70 FR 12587. |
Prevention of Significant Deterioration | Statewide | 7/11/1986 | 7/30/1991, 56 FR 36006. |
Oregon Regional Haze Plan—Section 308 | Statewide | 12/9/2010 | 7/05/2011, 76 FR 38997 | Meets CAA requirements section 169A and 40 CFR 51.308(e) regarding BART and the requirements of 40 CFR 51.308(d)(2) and (d)(4)(v) regarding the calculation of baseline and natural conditions of OR Wilderness areas and the statewide inventory of emissions of pollutants that are reasonably anticipated to cause or contribute to visibility impairment in any mandatory Class I Federal Area.
Oregon Regional Haze SIP revision | Statewide | 12/9/2010; 2/01/2011 | 8/22/2012, 77 FR 50611 | Meeting CAA requirements section 169A, and 40 CFR 51.308(d)(1) and (3).
Regional Haze Progress Report | Statewide | 7/18/2017 | 5/17/2018, 83 FR 22853. |
Section 6—Ambient Air Quality Monitoring Program
Ambient Air Quality Monitoring Program | Statewide | 5/31/1986; 7/11/1986 | 7/30/1991, 56 FR 36006. |
Air Monitoring Network | Statewide | 5/31/1986; 7/11/1986 | 7/30/1991, 56 FR 36006. |
Data Handling and Analysis Procedures | Statewide | 5/31/1986; 7/11/1986 | 7/30/1991, 56 FR 36006. |
Episode Monitoring | Statewide | 5/31/1986; 7/11/1986 | 7/30/1991, 56 FR 36006. |
Section 7—Emergency Plan
Emergency Action Plan | Statewide | 5/31/1986; 7/11/1986 | 7/30/1991, 56 FR 36006. |
Section 8—Public Involvement
Public Involvement | Statewide | 5/31/1986; 7/11/1986 | 7/30/1991, 56 FR 36006. |
Section 9—Plan Revisions and Reporting
Plan Revisions and Reporting | Statewide | 5/31/1986; 7/11/1986 | 7/30/1991, 56 FR 36006. |
110(a)(2) Infrastructure and Intersate Transport
Interstate Transport for the 1997 8-hour ozone NAAQS | Statewide | 6/23/2010; 12/23/2010 | 6/09/2011, 76 FR 33650 | This action addresses CAA secition 110(a)(2)(D)(i)(I).
Interstate Transport for the 1997 PM2.5 NAAQS | Statewide | 6/23/2010; 12/23/2010 | 6/09/2011, 76 FR 33650 | This action addresses CAA secition 110(a)(2)(D)(i)(I).
Interstate Transport for the 1997 8-hour ozone NAAQS | Statewide | 12/20/2010 | 7/05/2011, 76 FR 38997 | This action addresses CAA section 110(a)(2)(D)(i)(II) as it applies to visiblity.
Interstate Transport for the 1997 PM2.5 NAAQS | Statewide | 12/20/2010 | 7/05/2011, 76 FR 38997 | This action addresses CAA section 110(a)(2)(D)(i)(II) as it applies to visibility.
Interstate Transport for the 1997 8-hour ozone NAAQS | Statewide | 6/23/2010; 12/22/2010 | 12/27/2011, 76 FR 80747 | This action addresses CAA section 110(a)(2)(D)(i) and section 110(a)(2)(D)(i)(II).
Interstate Transport for the 1997 24-hour PM2.5 NAAQS | Statewide | 6/23/2010; 12/22/2010 | 12/27/2011, 76 FR 80747 | This action addresses CAA section 110(a)(2)(D)(i) and section 110(a)(2)(D)(i)(II).
Interstate Transport for the 2006 24-hour PM2.5 NAAQS | Statewide | 6/23/2010; 12/22/2010 | 12/27/2011, 76 FR 80747 | This action addresses CAA section 110(a)(2)(D)(i)(II).
Infrastructure for the 1997 8-hour ozone NAAQS | Statewide | 9/25/2008 | 5/21/2012, 77 FR 29904 | This action addresses the following CAA section 110(a)(2) elements: (A), (B), (C), (D)(ii), (E), (F), (G), (H), (J), (K), (L), and (M).
Infrastructure for the 2008 lead NAAQS | Statewide | 12/27/2013 | 6/24/2014, 79 FR 35693 | This action addresses the following CAA section 110(a)(2) elements: (A), (B), (C), (D)(i)(II), (D)(ii), (E), (F), (G), (H), (J), (K), (L), and (M).
Infrastructure for the 1997 24-hour PM2.5 NAAQS | Statewide | 9/25/2008 | 8/01/2014, 78 FR 46514 | This action addresses the following CAA section 110(a)(2) elements: (A), (B), (C), (D)(ii), (E), (F), (G), (H), (J), (K), (L), and (M).
Infrastructure for the 2006 24-hour PM2.5 NAAQS | Statewide | 8/17/2011 | 8/01/2014, 78 FR 46514 | This action addresses the following CAA section 110(a)(2) elements: (A), (B), (C), (D)(ii), (E), (F), (G), (H), (J), (K), (L), and (M).
Infrastructure for the 2008 ozone NAAQS | Statewide | 12/19/2011 | 8/01/2014, 78 FR 46514 | This action addresses the following CAA section 110(a)(2) elements: (A), (B), (C), (D)(ii), (E), (F), (G), (H), (J), (K), (L), and (M).
Interstate Transport for the 2006 24-hour PM2.5 NAAQS | Statewide | 12/23/2010 | 8/01/2014, 78 FR 46514 | This action addresses CAA section 110(a)(2)(D)(i)(II) as it applies to visibility.
Interstate Transport for the 2008 ozone NAAQS | Statewide | 12/23/2010 | 8/01/2014, 78 FR 46514 | This action addresses CAA section 110(a)(2)(D)(i)(II) as it applies to PSD and visibility.
Interstate Transport for the 2006 24-hour PM2.5 NAAQS | Statewide | 6/23/2010 | 1/16/2015, 80 FR 2313 | This action addresses CAA section 110(a)(2)(D)(i)(I).
Interstate Transport for the 2008 ozone NAAQS | Statewide | 6/28/2010 | 12/21/2015, 80 FR79266 | This action meets the requirements of CAA section 110(a)(2)(D)(i)(I).
Interstate Transport for the 2008 lead NAAQS | Statewide | 10/20/15 | 5/16/2016, 81 FR 30181 | This action meets the requirements of CAA section 110(a)(2)(D)(i)(I).
Interstate Transport for the 2010 nitrogen dioxide NAAQS | Statewide | 10/20/15 | 5/16/2016, 81 FR 30181 | This action meets the requirements of CAA section 110(a)(2)(D)(i)(I).
Infrastructure for the 2010 nitrogen dioxide NAAQS | Statewide | 12/27/2013 | 5/24/2018, 83 FR 24034 | This action addresses the following CAA section 110(a)(2) elements: (A), (B), (C), (D)(i)(II), (D)(ii), (E), (F), (G), (H), (J), (K), (L), and (M).
Infrastructure for the 2010 sulfur dioxide NAAQS | Statewide | 12/27/2013 | 5/24/2018, 83 FR 24034 | This action addresses the following CAA section 110(a)(2) elements: (A), (B), (C), (D)(i)(II), (D)(ii), (E), (F), (G), (H), (J), (K), (L), and (M).
Infrastructure for the 2012 PM2.5 NAAQS | Statewide | 10/20/2015 | 5/24/2018, 83 FR 24034 | This action addresses the following CAA section 110(a)(2) elements: (A), (B), (C), (D)(i)(II), (D)(ii), (E), (F), (G), (H), (J), (K), (L), and (M).
Interstate Transport for the 2012 PM2.5 NAAQS | Statewide | 10/20/2015 | 9/18/2018, 83 FR 47073 | This action meets the requirements of CAA section 110(a)(2)(D)(i)(I).
EPA-Approved Oregon State Directives
Directive 1-4-1-601 | Operational Guidance for the Oregon Smoke Management Program | 8/26/1993 | 11/1/2001, 66 FR 55105. |
ODEQ-LRAPA Stringency Directive, Attachment B | DEQ analysis and recommendations regarding which of the proposed rules that the EQC should require LRAPA to implement directly | 4/22/2015 | 10/11/2017, 82 FR 47122. |
EPA-Approved Manuals
| ODEQ Source Sampling Manual | 4/22/2015 | 10/11/2017, 82 FR 47122 | Volumes I and II for purposes of the limits approved into the SIP.
| ODEQ Continuous Emissions Monitoring Manual | 4/22/2015 | 10/11/2017, 82 FR 47122 | For purposes of the limits approved into the SIP.

§§ 52.1989 through 52.1992 [Removed and Reserved]

3. Sections 52.1989 through 52.1992 are removed and reserved.

[FR Doc. 2019-06881 Filed 4-9-19; 8:45 am]

BILLING CODE 6560-50-P